DEPARTMENT OF AGRICULTURE

Food Safety and Inspection Service

9 CFR Part 381

[Docket No. FSIS-2025-0012]

RIN 0583-AE01

Maximum Line Speed Rates for Young Chicken and Turkey Establishments Operating Under the New Poultry Inspection System

AGENCY: Food Safety and Inspection Service (FSIS), U.S. Department of Agriculture (USDA).

ACTION: Proposed rule.

SUMMARY: FSIS is proposing to amend the regulations to: allow young chicken establishments operating under the New Poultry Inspection System (NPIS) to operate at line speeds up to 175 birds per minute (bpm); increase the maximum line speed prescribed for turkey establishments operating under the NPIS from 55 bpm to 60 bpm; define “maximum line speed” as the time it takes for an inspector to effectively perform online carcass inspection procedures; clarify when FSIS may direct establishments to operate at a reduced line speed; and remove requirements for NPIS establishments to submit to FSIS annual attestations on worker safety programs. The proposed amendments would allow poultry establishments to slaughter birds more efficiently while continuing to ensure food safety and effective online carcass inspection.

DATES: Comments must be received on or before April 20, 2026.

ADDRESSES: FSIS invites interested persons to submit comments on this proposed rule. Comments may be submitted by one of the following methods:

• Federal eRulemaking Portal: This website provides the ability to type short comments directly into the comment field on this web page or attach a file for lengthier comments. Go to https://www.regulations.gov. Follow the on-line instructions at that site for submitting comments.

• Mail: Send to Docket Clerk, U.S. Department of Agriculture, Food Safety and Inspection Service, 1400 Independence Avenue SW, Mailstop 3758, Washington, DC 20250-3700.

• Hand- or courier-delivered submittals: Deliver to 1400 Independence Avenue SW, Jamie L. Whitten Building, Room 350-E, Washington, DC 20250-3700. Instructions: All items submitted by mail or electronic mail must include the Agency name and docket number FSIS-2025-0012. Comments received in response to this docket will be made available for public inspection and posted without change, including any personal information, to https://www.regulations.gov.

Docket: For access to background documents or comments received, call (202) 720-5046 to schedule a time to visit the FSIS Docket Room at 1400 Independence Avenue SW, Washington, DC 20250-3700.

FOR FURTHER INFORMATION CONTACT: Rachel Edelstein, Assistant Administrator for the Office of Policy and Program Development, at (202) 205-0495 or docketclerk@usda.gov with a subject line of “Docket No. FSIS 2025-0012.” Individuals in the United States who are deaf, deafblind, hard of hearing, or have a speech disability may dial 711 (TTY, TDD, or TeleBraille) to access telecommunications relay services. Individuals outside the United States should use the relay services offered within their country to make international calls to the point-of-contact in the United States. For a summary of the proposal, please see the rule summary document in docket FSIS-2025-0012 on www.regulations.gov.

SUPPLEMENTARY INFORMATION:

Executive Summary

Current FSIS regulations allow NPIS young chicken slaughter establishments to operate at a maximum line speed of 140 bpm (9 CFR 381.69(a)).

When FSIS issued the final NPIS rule in 2014, the Agency granted regulatory waivers to allow 20 poultry establishments that participated in the former Hazard Analysis and Critical Control Point (HACCP)-Based Inspection Models Project (HIMP) pilot study to continue to operate at line speeds up to 175 bpm, because data from the HIMP pilot demonstrated that they were capable of consistently producing safe, wholesome, and unadulterated product and meeting pathogen reduction performance standards ¹ (79 FR 49566, 49591).

¹ Evaluation of HACCP Inspection Models Project (HIMP), August 2011, available at: https://www.fsis.usda.gov/inspection/compliance-guidance/haccp/haccp-based-inspection-models-project#:~:text=The%20HACCP-Based%20Inspection%20Models,meat%20and%20poultry%20inspection%20system.

In 2018, FSIS began to consider requests for additional waivers from NPIS young chicken establishments to operate at line speeds of up to 175 bpm if these establishments met certain criteria (83 FR 49048). A contracted, peer-reviewed study ² (herein referred to as the Line Speed Study) of data collected from 2018-2019 found that the presence of Salmonella on young chicken carcasses and other indicators of problems with process control,³ such as noncompliance records (NRs) for regulations associated with process control and food safety, were not significantly increased in establishments operating at higher line speeds under a waiver, i.e., higher than 140 bpm and up to 175 bpm, compared to establishments with lower line speeds that were not operating under line speed waivers. Similarly, FSIS' ongoing verification of establishments' Salmonella Initiative Program (SIP) data demonstrates that NPIS establishments operating under line speed waivers are consistently maintaining process control when operating at faster line speeds. Under SIP, slaughter establishments test for microbial pathogens and respond to the ongoing results by taking steps necessary to maintain process control and minimize the presence of pathogens of public health concern. Participating establishments share their testing data with FSIS to verify ongoing control of food safety hazards while operating under a line speed waiver.

² Cox Jr., L.A., 2021. Higher line speed in young chicken slaughter establishments does not predict increased Salmonella contamination risks. Poultry Science, 100(2), pp.635-642._ https://doi.org/10.1016/j.psj.2020.09.084.

³ An establishment is maintaining process control when their food safety system is performing as intended to consistently control hazards.

FSIS stopped accepting new poultry line speed waiver requests in March 2020 because, based on the waivers it had approved and the additional waiver applications under review at that time, FSIS had collected sufficient data from participating establishments to move forward with rulemaking.⁴

⁴ FSIS No Longer Accepting Poultry Line Speed Waiver Requests, FSIS Constituent Update, April 24, 2020: https://www.fsis.usda.gov/news-events/news-press-releases/constituent-update-april-24-2020.

In July 2022, in response to litigation ⁵ challenging FSIS' issuance of line speed waivers to establishments participating in the NPIS, FSIS modified the NPIS line speed waivers initiated in 2018 to require that participating establishments submit monthly worker safety data to facilitate a study on the effects of increased evisceration line speeds on establishment worker safety (herein referred to as the Worker Safety Study).⁶ In addition to submitting monthly worker safety data, participating establishments were involved in extensive research by the contracted study team, which included on-site visits, surveys and interviews with establishment workers, and measurements of ergonomic exposures. The study was completed on January 9, 2025, and posted on the FSIS website on January 10, 2025.⁷ The study concluded that increased evisceration line speeds are not associated with increased risk of musculoskeletal disorder.

⁵ United Food & Com. Workers Union, Loc. No. 227 v. United States Dep't of Agric., No. 20-cv-02045 (D.D.C. 2023) (voluntary dismissal after modification of line speed waivers).

⁶ FSIS Announces Study of Effect of Increased Poultry Line Speeds on Worker Safety, FSIS Constituent Update, July 29, 2022: https://www.fsis.usda.gov/news-events/news-press-releases/constituent-update-july-29-2022.

⁷ Poultry Processing Line Speed Evaluation Study available at: https://www.fsis.usda.gov/news-events/publications/poultry-processing-line-speed-evaluation-study-pulse.

After reviewing and evaluating the earlier peer-reviewed Line Speed Study, FSIS' ongoing verification of establishments' SIP data, and the Worker Safety Study, the Agency is proposing to amend the regulations to allow NPIS young chicken establishments to operate at line speeds up to 175 bpm. The amendments, if finalized, would reduce regulatory burden and enable establishments to operate more efficiently without compromising food safety. These changes would also continue to ensure that FSIS inspectors are able to perform an effective online inspection of each bird processed, as required by the Poultry Products Inspection Act (PPIA).⁸

⁸ 21 U.S.C. 455(b); See also Am. Fed'n of Gov't Emps., AFL-CIO v. Glickman, 215 F.3d 7, 11 (D.C. Cir. 2000).

The maximum line speed for NPIS turkey establishments is 55 bpm. There is currently one turkey establishment operating under a waiver to operate at up to 60 bpm. FSIS is proposing to amend the regulations to permit NPIS turkey establishments to operate at up to 60 bpm without the need for a regulatory waiver. SIP data from this establishment shows it can operate effectively without compromising food safety at 60 bpm and that other turkey slaughter establishments should also be able to gain efficiency and maintain food safety at 60 bpm.

FSIS is proposing to amend 9 CFR 381.69(a) to define “maximum line speed” as the speed at which an inspector can effectively perform online carcass inspection procedures to clarify that “maximum line speed” refers to the point of FSIS inspection, consistent with FSIS' longstanding practice of conducting line speed checks at the point of inspection. FSIS is also proposing to clarify in 381.69(d) that the inspector in charge (IIC) may require establishments to reduce the rate of their operations at any point in the slaughter process if process control is lost or if FSIS cannot conduct effective carcass-by-carcass inspection, required by the PPIA. FSIS is also proposing to remove 9 CFR 381.45, which requires that NPIS establishments submit an annual attestation stating that they maintain a program to monitor and document work-related conditions of establishment workers. Likewise, FSIS is proposing to remove 9 CFR 381.46, which states that should a court hold any provision of 9 CFR 381.45 to be invalid, the action will be severable from (i.e., will not affect) any other provision of the FSIS poultry inspection regulations. These actions are being proposed because FSIS lacks statutory authority to regulate establishment worker safety. The Occupational Safety and Health Administration (OSHA) is the Federal agency with statutory and regulatory authority to promote workplace safety and health (see Occupational Safety and Health Act of 1970 29 U.S.C. 651 et seq.). FSIS' authority with respect to working conditions in FSIS-regulated establishments extends only to Agency inspection personnel.⁹ Removing the worker safety attestation requirement would eliminate any confusion about FSIS' lack of statutory authority over establishment worker safety. Regardless of the attestation, establishments, of course, are required to comply with all applicable Federal (e.g., OSHA-administered), state, and local worker safety requirements.

⁹ Section 19 of the Occupational Safety and Health Act of 1970 holds Federal agencies responsible for providing safe and healthful working conditions for their own workers. 29 U.S.C. 668.

FSIS has also issued waivers to establishments that slaughter poultry other than young chickens and turkeys, allowing them to operate under NPIS (9 CFR 381.76(b)(1)(iv)) or the Streamlined Inspection System (SIS) (9 CFR 381.76(b)(3)). The Agency intends to evaluate data from these establishments operating under a waiver to determine whether to pursue rulemaking, in a separate action, to expand NPIS or SIS to additional classes of poultry.

Summary of Costs and Benefits

Table 1 presents the estimated costs, benefits, and net benefits of the proposed rule. Later portions of the regulatory impact analysis section contain an explanation of the assumptions, estimates, alternative scenarios, and the number of NPIS establishments that FSIS expects would increase their line speeds over a range of potential changes.

Table 1—Summary of the Net Benefits
[Million $]
| Range of establishments: Lower (23 est.) | Range of establishments: Mid (58 est.) | Range of establishments: Upper (85 est.)
Benefits | 223 | 386 | 534
Costs | 127 | 202 | 309
Net Benefits | 96 | 184 | 225
Note: Estimates were for a mid-point (15 percent) increase in line speed changes and annualized assuming a 5-year adoption period at a 7 percent discount rate over 10 years. Details and requests for comments about the underlying analysis appear later in this publication.

Table of Contents

I. Background

A. History of Maximum Line Speeds for NPIS Young Chicken Establishments

B. National Chicken Council Petition and Line Speed Waiver

C. Line Speed Study, FSIS Ongoing Verification, and Discontinued Waiver Requests

D. Worker Safety Study

E. Proposed Elimination of Attestation Requirement

F. Proposed Changes to the NPIS Maximum Line Speed Rates

II. Environmental Impact

III. Executive Orders (E.O.s) 12866, as Amended by 13563, and 14192

IV. Regulatory Flexibility Act Assessment

V. Paperwork Reduction Act

VI. Executive Order 12988, Civil Justice Reform

VII. E-Government Act

VIII. Executive Order 13175

IX. USDA Non-Discrimination Statement

X. Additional Public Notification

XI. Proposed Regulatory Amendments

I. Background

A. History of Maximum Line Speeds for NPIS Young Chicken Establishments

FSIS inspects and regulates the production of poultry prepared for distribution in interstate commerce under the authority of the PPIA (21 U.S.C. 451 et seq.). The PPIA requires that “[t]he Secretary [of Agriculture], whenever processing operations are being conducted, shall cause to be made by inspectors post mortem inspection of the carcass of each bird processed . . .” (21 U.S.C. 455(b)). The PPIA also provides that the Secretary shall promulgate such other rules and regulations as are necessary to carry out the provisions of the statute (21 U.S.C. 463(b)).

HACCP-Based Inspection Models Project (HIMP)

On July 25, 1996, FSIS published the final rule “Pathogen Reduction; Hazard Analysis and Critical Control Point Systems” (PR/HACCP) (61 FR 38806; July 25, 1996), to modernize inspection and reduce foodborne illnesses. FSIS then began experimenting with new approaches to slaughter inspection based on HACCP principles. In 1997, the Agency developed the HACCP-Based Inspection Models Project (HIMP) pilot study to determine whether applying new government slaughter inspection procedures, with new establishment responsibilities, could promote industry innovation and provide at least the same food safety and consumer protection as the other available slaughter inspection systems. FSIS initiated the HIMP pilot study in 20 young chicken, five young turkey, and five market hog establishments on a waiver basis (see 79 FR 49566, 49572 and 84 FR 52300, 52302).

Under HIMP, establishment personnel, rather than FSIS inspectors (as is the case under all other poultry inspection systems ¹⁰), were responsible for sorting carcasses, disposing of carcasses affected with conditions that would require that they be condemned, and conducting any trimming and reprocessing that they believe necessary to correct removable defects (79 FR 49566, 49572).

¹⁰ Poultry slaughter inspections systems other than the NPIS include the SIS, New Line Speed Inspection System (NELS), NTI System, and Traditional Inspection. The maximum line speed under SIS is 35 bpm, under NELS it is 91 bpm, and under NTI, it is 55 bpm.

FSIS' experience under the HIMP pilot showed that online inspectors in HIMP young chicken establishments were able to conduct an effective online post-mortem inspection of each carcass when operating line speeds up to 175 bpm and that HIMP establishments were able to maintain process control when operating at the line speeds authorized under HIMP ¹¹ (79 FR 49566, 49567).

¹¹ Evaluation of HACCP Inspection Models Project (HIMP), August 2011, available at: https://www.fsis.usda.gov/sites/default/files/media_file/2020-10/Evaluation_HACCP_HIMP.pdf. https://www.fsis.usda.gov/inspection/compliance-guidance/haccp/haccp-based-inspection-models-project.

New Poultry Inspection System (NPIS)

Based on its experience under and data from the HIMP pilot, on August 21, 2014, FSIS published a final rule that established the NPIS as an additional optional inspection system for young chicken and all turkey slaughter establishments to “facilitate pathogen reduction in poultry products, improve the effectiveness of poultry slaughter inspection, make better use of the Agency's resources, and remove unnecessary regulatory obstacles to innovation” (79 FR 49566). Prior to the HIMP pilot study and the NPIS, FSIS online inspectors positioned along the evisceration line were responsible for identifying unacceptable carcasses and parts, examining carcasses for visual defects, and directing establishment employees to take appropriate corrective actions if the defects can be corrected through trimming and reprocessing.¹² Under the NPIS, establishment employees sort carcasses and remove unacceptable carcasses and parts before the birds are presented to an online inspector located at the end of the line before the chiller. Because the online inspector under the NPIS is presented with carcasses that have been sorted, washed, and trimmed by establishment employees, and are thus more likely to pass inspection, the inspector is able to conduct a more efficient online post-mortem inspection of each carcass.

¹² This is still the case for all other FSIS poultry inspection systems.

Process Control

Under whichever inspection system establishments are operating, establishments design and use process control procedures necessary for the production of safe, wholesome, and unadulterated products as required by the PPIA. The procedures typically include a means of observing or measuring system performance, analyzing the results generated to define a set of control criteria, and taking action when necessary to ensure that the system continues to perform within the control criteria. The procedure is likely to include planned measures that the establishment will take in response to any loss of process control. The procedures can also be used as support for decisions made in the establishment's hazard analysis. Agency inspectors conduct food safety-related verification activities to inspect and evaluate process control at all establishments under FSIS jurisdiction that slaughter poultry other than ratites. Under the NPIS final rule, all poultry slaughter establishments must develop, implement, and maintain written procedures to ensure that carcasses contaminated with visible fecal material do not enter the chiller, and they must incorporate these procedures into their HACCP plans, sanitation Standard Operating Procedures (SOPs), or other prerequisite programs. The NPIS final rule also requires that all poultry slaughter establishments develop, implement, and maintain written procedures to prevent contamination of carcasses and parts by enteric pathogens and fecal material throughout the entire slaughter and dressing operation, and that they incorporate their procedures into their HACCP systems (79 FR 49566, 49568).

Maximum Line Speeds

The maximum line speeds authorized under poultry inspection systems reflect the time it takes for an inspector to effectively perform the online carcass inspection procedures required for the system. The fastest line speed authorized for a non-NPIS young chicken inspection system is 140 birds per minute (bpm) with four online inspectors, i.e., 35 bpm per inspector under the Streamlined Inspection System (SIS) for young chickens.

Based on FSIS' experience under HIMP, the Agency initially proposed 175 bpm as the maximum line speed for NPIS young chicken establishments because online inspectors in HIMP young chicken establishments were able to conduct an effective online inspection of each carcass when operating at a line speed of up to 175 bpm and HIMP establishments were able to maintain process control at the line speeds authorized under HIMP (77 FR 4408, 4419). However, after considering the public comments submitted on the proposed rule, FSIS concluded that it was important to assess additional young chicken establishments' ability to maintain process control as they implement changes to operate under the NPIS (79 FR 49566, 49591). Therefore, the final rule that established the NPIS provided for a maximum line speed of 140 bpm for young chicken establishments, instead of 175 bpm as was proposed, with an exception for the 20 young chicken establishments that participated in the HIMP pilot study.

In the preamble to the final rule, FSIS explained that it decided to grant waivers to the 20 young chicken HIMP establishments, permitting them to continue to operate at lines speeds of up to 175 bpm after they converted to the NPIS, because data from the HIMP pilot demonstrated that these establishments were capable of consistently producing safe, wholesome, and unadulterated product and were able to meet pathogen reduction and other performance standards when operating under line speeds authorized under HIMP (79 FR 49566, 49591). The establishments were required to participate in FSIS' SIP ¹³ as a condition of their waiver. The preamble to the final rule stated that “[a]fter the NPIS has been fully implemented on a wide scale, and the Agency has gained at least a year of experience under the new system, FSIS intends to assess the impact of changes adopted by establishments operating under the NPIS by evaluating the results of the Agency's Salmonella and Campylobacter verification sampling, reviewing documentation on establishments' [other consumer protection] performance, and other relevant factors.” (79 FR 49566, 49591). The preamble also stated that, “once the NPIS is fully implemented at most establishments, data from these establishments can be used to compare against data from the [former HIMP] young chicken establishments operating under the [line speed] waivers.” (79 FR 49566, 49591). Thus, when FSIS published the final rule establishing the NPIS, it made clear that the Agency would continue to consider line speeds at which establishments are capable of: (1) maintaining process control to prevent fecal and enteric pathogen contamination and (2) consistently producing safe, wholesome, and unadulterated product.

¹³ Under the SIP, FSIS grants establishments a waiver of regulatory requirements with the condition that the establishment collects and analyzes samples for microbial organisms, including both Salmonella and indicator organisms, and shares the results with FSIS.

B. National Chicken Council Petition and Line Speed Waivers

On September 1, 2017, the National Chicken Council (NCC) petitioned FSIS to implement a waiver system to exempt young chicken slaughter establishments from the regulation that prescribes 140 bpm as the maximum line speed under the NPIS (9 CFR 381.69(a)).¹⁴ The petition requested that FSIS allow participating establishments to operate at any line speed at which they can maintain process control. FSIS is authorized to grant regulatory waivers under 9 CFR 381.3(b), which provides that, “[t]he Administrator may in specific classes of cases waive for limited periods any provisions of the regulations . . . to permit experimentation so that new procedures, equipment, and processing techniques may be tested to facilitate definite improvements: Provided, [t]hat such waivers . . . are not in conflict with the purposes or provisions of the Act.” Additionally, in the October 13, 2017 Constituent Update, FSIS announced that the petition was available for comment.¹⁵

¹⁴ NCC petition available at: https://www.fsis.usda.gov/federal-register/petitions/petition-permit-waivers-maximum-line-speed-rates-poultry.

¹⁵ FSIS' October 13, 2017, Constituent Update available at: https://www.fsis.usda.gov/sites/default/files/import/ConstiUpdate101317.pdf.

On January 29, 2018, FSIS sent a response to the NCC denying the petition.¹⁶ In its response, FSIS explained that because it already has detailed procedures for the submission of new technology notifications and protocols, as well as procedures for requests for waivers from regulatory requirements under the SIP, the Agency determined that it was unnecessary to establish a separate system to provide line speed waivers to young chicken establishments. In addition to denying the petition, the response noted that FSIS then had over a year of documented process control history for many young chicken establishments operating under the NPIS. The response explained that based on this history, FSIS had decided to consider requests for waivers from young chicken establishments, in addition to the 20 former HIMP establishments, to operate at line speeds of up to 175 bpm. In the February 23, 2018, Constituent Update, FSIS announced the criteria that the Agency would use to consider requests from NPIS young chicken slaughter establishments to operate at line speeds of up to 175 bpm and outlined the waiver request submission requirements.¹⁷ FSIS published a Federal Register notice on September 28, 2018 (83 FR 49048), to respond to comments on the NCC petition and further discussed criteria applicable to line speed waivers for young chicken establishments.

¹⁶ FSIS' January 29, 2018, response to the petition is available at: https://www.fsis.usda.gov/federal-register/petitions/petition-permit-waivers-maximum-line-speed-rates-poultry.

¹⁷ FSIS' Criteria for Consideration of Waiver Requests for Young Chicken Slaughter Establishments to Operate at Line Speeds up to 175 bpm, FSIS, Constituent Update (February 23, 2018) available at: https://www.fsis.usda.gov/news-events/news-press-releases/constituent-update-february-23-2018.

Under the criteria announced in the September 2018 Federal Register notice, to be eligible for a line speed waiver, a young chicken establishment:

• Must have been operating under the NPIS for at least one year, during which time it had been in compliance with all NPIS requirements;

• Must have been in Salmonella performance standard category 1 or 2 for young chicken carcasses; ¹⁸

¹⁸ Establishments in FSIS' Salmonella performance category 1 are achieving a Salmonella percent positive at least 50 percent lower than the Agency's Salmonella performance standard. Establishments in Salmonella performance category 2 are achieving a Salmonella percent positive higher than those in category 1 but that is at or below the Agency's Salmonella performance standard. FSIS has also established Salmonella performance standards for raw chicken parts and not-ready-to-eat (NRTE) comminuted chicken and turkey products (81 FR 7285). The line speed waiver criteria require that establishments meet the Salmonella performance categories for young chicken carcasses because these standards reflect Salmonella prevalence on carcasses at the end of slaughter operations.

• Must have had a demonstrated history of regulatory compliance. For purposes of the waiver, a history of regulatory compliance meant that the establishment: (1) had not received a public health regulation alert ¹⁹ for the last 120 days; (2) had not had an enforcement action as a result of a Food Safety Assessment (FSA) conducted in the last 120 days; (3) had not been the subject of a public health related enforcement action in the last 120 days; and (4) had not had an NR for violation of good commercial practices (GCPs) (9 CFR 381.65(b)) in the last 120 days; and

¹⁹ This refers to a public health regulation (PHR) alert issued through the Public Health Information System for non-compliance with public health regulations (see FSIS Directive 5100.2, Public Health Regulations and FSIS Response to Elevated Public Health Regulation Noncompliance Rates (September 25, 2019)).

• Must have been able to demonstrate that the new equipment, technologies, or procedures that allowed the establishment to operate at faster line speeds would maintain or improve food safety.

In addition to describing the criteria that establishments had to meet to qualify for a line speed waiver, the September 2018 Federal Register notice described the documentation that establishments needed to include in their waiver request submissions. The notice also explained that, because FSIS intended to use the data collected from young chicken establishments operating under waivers to evaluate their ability to maintain process control at faster line speeds, the Agency would limit line speed waivers to establishments that had the ability and intention to operate at line speeds higher than 140 bpm (83 FR 49048, 49051). Thus, as a condition for their waiver, establishments had to routinely operate at least one line faster than 140 bpm and agree to notify the FSIS inspector when operating at faster line speeds.

The September 2018 Federal Register notice also explained that as a condition of their waivers, consistent with other slaughter establishments operating under waivers, NPIS young chicken establishments were required to participate in the SIP (83 FR 49048, 49051). Under the SIP, FSIS granted an establishment a waiver of regulatory requirements with the condition that the establishment collected and analyzed samples for microbial organisms, including both Salmonella and indicator organisms, and shared the results with FSIS. NPIS young chicken establishments operating under line speed waivers were required to conduct daily aerobic plate count (APC) testing, and at least weekly testing for Salmonella. To promote the collection of consistent data across establishments, FSIS developed a template that establishments operating under line speed waivers used to report their SIP data to FSIS. Under SIP, establishments take appropriate actions to address increasing levels of Salmonella or indicator organisms. FSIS continues to verify that establishments operating under line speed waivers submit the SIP data and respond to it according to the terms of their SIP letter on an ongoing basis. FSIS also monitors the results of its Salmonella testing and establishments' regulatory compliance on an ongoing basis to verify that establishments remain eligible for their waivers and to verify that they are maintaining process control when operating at faster line speeds.

To ensure that the data collected from all NPIS establishments with line speed waivers would be comparable, FSIS issued new waiver letters containing the eligibility criteria to the 20 former HIMP establishments that had been operating under line speed waivers. The Agency gave the former HIMP establishments 120 days from receipt of the letter to meet the new waiver criteria. Eighteen of the 20 former HIMP establishments met the criteria and were issued new line speed waivers.

In addition to participating in the SIP, young chicken establishments that have been granted a line speed waiver had to continue to meet the criteria described in the September 2018 Federal Register notice to remain eligible for their waiver. FSIS continues to follow the procedures in FSIS Directive 5020.1, Verification Activities for the Use of New Technology in Meat and Poultry Establishments and Egg Products Plants (October 6, 2016),²⁰ to verify that establishments granted waivers remain eligible for their waivers and are following the process control procedures agreed to as a condition for the waivers. If FSIS finds that an establishment that has been granted a line speed waiver is unable to meet the conditions of its waiver agreement, the Agency will consider whether to allow the establishment to implement corrective actions and resume operating under the waiver or whether the waiver needs to be revoked. If the waiver is revoked, the establishment is required to comply with the 140 bpm maximum line speed for the NPIS (9 CFR 381.69(a)).

²⁰ Available at: https://www.fsis.usda.gov/policy/fsis-directives/5020.1.

FSIS posts a table of all young chicken establishments that have line speed waivers on its website at: https://www.fsis.usda.gov/inspection/inspection-programs/inspection-poultry-products/modernization-poultry-slaughter.

C. Line Speed Study, FSIS Ongoing Verification, and Discontinued Waiver Requests

Line Speed Study

As discussed in the September 2018 Federal Register notice, when FSIS published the waiver criteria, the Agency intended to use the data generated from young chicken establishments that were granted new line speed waivers, along with the data generated from the former young chicken HIMP establishments operating under updated line speed waivers, to assess the ability of NPIS establishments to maintain process control at higher line speeds and to inform future rulemaking, if supported (83 FR 49048, 49052). FSIS collected information from 97 young chicken slaughter establishments (including those with line speed waivers) operating under the NPIS from July 2, 2018, to July 12, 2019, including routine verification data, the number of lines operating, operation hours, and recorded line speeds for each line operating.²¹ A contracted, peer-reviewed study ²² of the data applied parametric and non-parametric regressions and non-parametric machine learning methods to analyze Salmonella carcass sample results and NRs for regulations related to process control and food safety. The Line Speed Study compared the relative frequency distributions of positive Salmonella carcass samples and other indicators of process control, such as NRs for regulations related to food safety and process control, among establishments operating at different line speeds. All young chicken establishments operating under the NPIS from July 2, 2018, to July 12, 2019, were analyzed.

²¹ Available at: https://www.fsis.usda.gov/policy/fsis-directives/5020.1.

²² Cox, L.A. (2021). Higher line speed in young chicken slaughter establishments does not predict increased Salmonella contamination risks. Poultry Science, 100(2), 635-642. https://doi.org/10.1016/j.psj.2020.09.084.

The Line Speed Study analyzed the data collected by FSIS and found that the presence of Salmonella on young chicken carcasses and other indicators of issues with process control, such as NRs for regulations associated with process control and food safety, are not significantly increased in establishments operating under line speed waivers compared to establishments with lower line speeds that were not operating under line speed waivers.

Although they were permitted to do so, not all establishments operating under line speed waivers (as a part of the Line Speed Study) chose to operate at the maximum permitted line speed of 175 bpm. As a condition of their waiver, they were, however, required to routinely operate at least one line at line speeds higher than 140 bpm. Several establishments with line speed waivers operated at line speeds between 140 bpm and 160 bpm. Establishments considered a number of factors to determine their line speed, including their equipment and facilities, bird size and flock condition, and their ability to maintain process control when operating at a given line speed. In addition, establishments operating under the NPIS considered the number of employees who had been trained and were available to conduct carcass sorting when determining line speed.

FSIS Ongoing Verification

As noted above, to ensure consistency in data collection and analysis, establishments with line speed waivers are required to conduct daily testing for aerobic count (AC) and weekly testing for Salmonella, and to submit their results, along with the line speed they were operating under when the data was collected, using a template provided by FSIS. Since it began granting waivers under the new criteria, FSIS has reviewed these SIP data submitted by all establishments operating under line speed waivers on an ongoing basis to verify their ability to maintain process control when operating at line speeds faster than 140 bpm and up to 175 bpm. These SIP data were submitted by establishments that were included in the Line Speed Study described above. FSIS continues to review SIP data from establishments.

As described in the letters granting the line speed waivers, FSIS verifies monthly SIP submissions to ensure that the establishment's internal sampling is concordant with FSIS sampling data. If the establishment's sampling shows that Salmonella percent positives in a 52-week moving window exceeds the performance standard for young chicken carcasses, currently 9.8%,²³ FSIS verifies that the establishment investigated the underlying cause(s) and implemented preventive and corrective actions detailed in the waiver letter to restore process control. Additionally, FSIS verifies that the establishment follows their written program for AC when identified by the establishment as a data point to inform process control; this includes verifying that the establishment investigated the underlying cause(s) and took any applicable corrective action in response to test results exceeding the establishment's specific control limits.

²³ 81 FR 7285, 7294.

FSIS also reviews the results of its Salmonella sampling to verify that establishments are maintaining process control and that they continue to meet the performance standards for category 1 or 2 for young chicken carcasses when operating at faster line speeds. Additionally, FSIS reviews the results of the Agency's 10-bird offline verification checks to verify that establishments are meeting the zero-tolerance standard for visible fecal contamination and septicemia/toxemia (9 CFR 381.65(f), 9 CFR 381.76(b)(6)(ii)(C), and 9 CFR 381.83) and that they are not producing product with persistent unattended non-food safety trim and processing defects when operating at higher line speeds (9 CFR 381.69(c), 9 CFR 381.76(b)(6)(ii)(A), and 9 CFR 381.1). FSIS verifies that establishments operating under line speed waivers continue to meet the criteria for demonstrating regulatory compliance on an ongoing basis, i.e., that they have not received a public health alert, have not had an enforcement action as a result of an FSA, have not been the subject of a public health related enforcement action, and do not have NRs for GCP violations.

FSIS' ongoing verification of establishments' compliance with the line speed waiver criteria and other information generated by establishments that have been granted line speed waivers provide further support for the Agency's conclusion that young chicken NPIS establishments are able to consistently maintain process control at line speeds faster than 140 bpm and up to 175 bpm.

Discontinued Review of New Waiver Requests

On March 20, 2020, FSIS stopped accepting additional requests for line speed waivers because the Agency determined that, based on the waivers it had approved and the additional waiver applications under review at that time, enough establishments would be operating under line speed waivers for FSIS to assess the effectiveness of its line speed waiver eligibility criteria and to determine whether to move forward with rulemaking. Waiver establishments produced 33 percent of young chicken in 2024 and are representative of the establishments most likely to increase their line speeds if this proposed rule is finalized. These establishments are all large, high-volume operations with production volumes and operational characteristics similar to other NPIS establishments that would be eligible to operate at faster line speeds, making them an appropriate group for assessing the potential impact of the proposed rule.

FSIS announced its decision to stop accepting additional line speed waiver requests in the April 24, 2020, Constituent Update.²⁴ As explained in that document, all waivers that FSIS responded to in April 2020 were received between August 8, 2019, and February 21, 2020.

²⁴ FSIS No Longer Accepting Poultry Line Speed Waivers, FSIS Constituent Update (April 24, 2020) available at: https://www.fsis.usda.gov/news-events/news-press-releases/constituent-update-april-24-2020.

D. Worker Safety Study

In July 2020, the United Food and Commercial Workers International Union (UFCW) sued FSIS in the U.S. District Court for the District of Columbia, challenging FSIS' issuance of the young chicken line speed waivers.²⁵ UFCW argued that the Agency's decision to grant the poultry line speed waivers without considering establishment worker safety was arbitrary and capricious and violated the Administrative Procedure Act's notice and comment rulemaking procedures (5 U.S.C. 553). The plaintiffs expressed concern about the effects of higher line speeds on establishment workers, including increased risk of acute physical injuries and musculoskeletal problems.

²⁵ United Food and Commercial Workers Union, et al. v. USDA, No. 1:20-cv-02045 (D.D.C.)

In January 2022, the Court in the UFCW case granted FSIS' motion for a voluntary remand to allow the Agency to review the poultry line speed waivers in light of the “Time Limited Trials” (TLTs) initiated in New Swine Slaughter Inspection System (NSIS) establishments, whereby a third-party contractor would be studying the potential effects of line speed on workers in swine establishments.²⁶ In July 2022, FSIS modified the poultry line speed waiver process, to require that establishments submit, in addition to the monthly SIP data, monthly worker safety data to facilitate a third-party contracted study on the effects of increased evisceration line speeds on establishment worker safety.²⁷ FSIS granted these modified waivers to 49 out of 50 establishments with existing waivers on March 31, 2023.²⁸

²⁶ FSIS contracted with a third-party after a decision in which the U.S. District Court for the District in Minnesota reimposed a cap on line speed under NSIS because the court determined that FSIS specifically solicited worker safety comments and then failed to address them, in violation of the Administrative Procedure Act. United Food & Com. Workers Union, Loc. No. 663 v. United States Dep't of Agric., 532 F. Supp. 3d 741 (D. Minn. 2021). However, as discussed later in this proposed rule, OSHA, not FSIS, regulates worker safety. FSIS can consider worker safety (e.g., by contracting experts), but cannot regulate worker safety. Establishments, themselves, are responsible for complying with occupational safety laws and providing and maintaining a safe workplace environment.

²⁷ FSIS Announces Study of Effect of Increased Poultry Line Speeds on Worker Safety, FSIS Constituent Update, July 29, 2022: https://www.fsis.usda.gov/news-events/news-press-releases/constituent-update-july-29-2022.

²⁸ Once the establishments at issue in the lawsuit were granted modified line speed waivers, the lawsuit was dismissed without prejudice on April 27, 2023.

In order for the contractors to complete their study, the modified waivers were extended through January 15, 2025. On January 10, 2025, the contracted Worker Safety Study, known as the Poultry Processing Line Speed Evaluation (PULSE) Study, was posted on FSIS' website.²⁹ As of March 17, 2025, FSIS no longer required establishments to submit worker safety data as a condition of their waiver.³⁰ Waivers will remain in effect through the conclusion of this rulemaking process.

²⁹ Poultry Processing Line Speed Evaluation Study (PULSE) available at: https://www.fsis.usda.gov/news-events/publications/poultry-processing-line-speed-evaluation-study-pulse.

³⁰ Secretary Rollins Takes Action to Streamline Pork and Poultry Processing in the United States: https://www.usda.gov/about-usda/news/press-releases/2025/03/17/secretary-rollins-takes-action-streamline-us-pork-and-poultry-processing.

The PULSE Study found that while 40 percent of workers across all studied establishments reported work-related pain, such pain was not reported more frequently at establishments operating at higher line speeds. Further, the study showed that musculoskeletal disorder (MSD) risk was more closely associated with the number of chicken parts handled per minute by an establishment worker (“piece rate”) than line speed. The study acknowledged that piece rates were similar across all establishments regardless of evisceration line speed and that such rates can be readily addressed by job-specific staffing. Thus, establishments can maintain or even reduce piece rate by adding staff or redistributing tasks, even as line speed increases.

In its report, the PULSE study team provided recommendations to poultry processing establishments to reduce MSD risk and improve overall worker safety in poultry processing establishments, aligned with best practices published by OSHA on ergonomics, medical management, and exposure control.³¹

³¹ Ergonomics Program Management Guidelines for Meatpacking Plants (DOL/OSHA 1993); Guidelines for Poultry Processing (DOL/OSHA 2004); Guidelines for Mitigating Ergonomic Risks in Meat and Poultry Processing (DOL/OSHA 2013) at: https://www.osha.gov/meatpacking.

Although, as discussed below, FSIS-does not have the statutory authority to require that establishments adopt the study's recommendations to assist them in adhering to applicable worker safety requirements ³² and mitigating MSD risk, FSIS encourages the establishments to consider the report recommendations, including evaluating staffing needs to reduce the risk of musculoskeletal disorders, and resources available on OSHA's website.

³² For example, under the General Duty Clause of the OSH Act, establishments must keep their workplaces free from recognized serious hazards, which includes ergonomic hazards (see 29 U.S.C. 654(a)(1), providing that each employer “shall furnish to each of his employees employment and a place of employment which are free from recognized hazards that are causing or are likely to cause death or serious physical harm to his employees.”

E. Proposed Elimination of Attestation Requirement

FSIS' regulations in 9 CFR 381.45 currently require that establishments operating under the NPIS submit an annual attestation stating that they maintain a program to monitor and document work-related conditions of establishment workers. However, this Administration has engaged in de novo review of FSIS' authority with respect to working conditions of non-FSIS personnel in slaughter establishments. FSIS' statutory authority with respect to working conditions of non-FSIS personnel in inspected establishments is not ambiguous: FSIS cannot regulate establishment worker safety.

FSIS has been delegated the authority to exercise the functions of the Secretary of Agriculture under the PPIA (7 CFR 2.18(a)(1)(ii)(A), 2.53(a)(2)(i)). The PPIA authorizes FSIS to administer and enforce laws and regulations to protect consumers by verifying that poultry products are safe, wholesome, not adulterated, and properly marked, labeled, and packaged (21 U.S.C. 451). Congress's policy intentions are set forth in Section 3 of the statute, which provides that the PPIA was enacted “to prevent the movement or sale in interstate or foreign commerce of, or the burdening of such commerce by, poultry products which are adulterated or misbranded” (21 U.S.C. 452). Likewise, in Section 9, aside from a provision concerning the protection of trade secrets, Congress limited prohibited acts under the PPIA to those pertaining to food safety (21 U.S.C. 458). The PPIA authorizes FSIS to administer and enforce laws and regulations to protect the health and welfare of consumers—not the health and welfare of non-FSIS employee workers.³³

³³ Dawkins v. U.S., 226 F.Supp.2d 750, 757 (M.D.N.C. 2002) (“[T]he purpose and intent of the FSIS is to ensure food safety, not workplace safety. The Government's efforts to ensure food safety are intended to have little effect on [establishment] workers”).

OSHA is the Federal agency with statutory authority to promote workplace safety and health. OSHA was created by the Occupational Safety and Health Act of 1970 (“OSH Act,” 29 U.S.C. 651 et seq.) to assure safe and healthful working conditions by setting and enforcing standards and by providing training, outreach, education, and assistance. OSHA has many resources on its website, including an eTool specific to the poultry processing industry that focuses on identifying and mitigating hazards associated with most areas of the establishment, including evisceration, cutting, and deboning. Consistent with the OSH Act of 1970, poultry establishments are responsible for providing a safe and healthful workplace for their employees and for finding and correcting safety and health problems. OSHA, in turn, bears the regulatory responsibility for ensuring that poultry establishments do so. The Administrative Procedure Act specifically bars an agency from acting “in excess of statutory jurisdiction, authority, or limitations, or short of statutory right” (5 U.S.C. 706(2)(C)). Indeed, the Supreme Court recently reaffirmed that an agency can only act within its statutory authority.34 35

³⁴ Loper Bright Enters. v. Raimondo, 603 U.S. 369 (2024).

³⁵ Biden v. Nebraska, 600 U.S. 477, 518-19, 143 S. Ct. 2355, 2382-83, 216 L. Ed. 2d 1063 (2023) (Barrett, J. concurring) (“Another telltale sign that an agency may have transgressed its statutory authority is when it regulates outside its wheelhouse.”) (citing Gonzales v. Oregon, 546 U.S. 243, 254, 275, 126 S. Ct. 904 (2006); King v. Burwell, 576 U.S. 473, 485-486, 135 S. Ct. 2480 (2015); Alabama Ass'n of Realtors v. Department of Health and Human Servs., 594 U.S. at_, 141 S. Ct. 2485, 2489 (2021) (per curiam); National Federation of Independent Business v. OSHA, 595 U.S._, 142 S. Ct. 661, 663, 665 (2022) (per curiam).

Agencies may not assume regulatory authority where Congress has granted none. Thus, in Seven County Infrastructure Coalition. v. Eagle County, Colorado, 145 S. Ct. 1497, 1516 (2025), an agency was not required, under the National Environmental Policy Act (NEPA), to analyze the environmental effects of projects over which it possesses no regulatory authority because “where an agency has no ability to prevent a certain effect due to its limited statutory authority over the relevant actions, the agency cannot be considered a legally relevant `cause' of the effect.” Id. (citing Department of Transportation v. Public Citizen, 541 U.S. 752, 770 (2004)). “[A]gencies are not required to analyze the effects of projects over which they do not exercise regulatory authority.” Id. These principles bear directly on this proposed rulemaking because FSIS does not have statutory authority to regulate worker safety. FSIS therefore has no legal obligation to analyze the impacts to the safety of workers in the establishments it inspects. Any prior statement to the contrary by FSIS has been rendered moot by the Supreme Court's clarification of agency responsibilities in Seven County. See id. Prior court rulings suggesting that FSIS had a duty to consider worker safety concerns similarly have been overruled by the Supreme Court's recent holding. Compare UFCW Local No. 663, 532 F. Supp. 3d 741 (D. Minn. 2021) (finding that FSIS' swine rule was arbitrary and capricious because it failed to consider public comments on the issue of worker safety), with Seven Cnty., 145 S. Ct. at 1516 (holding that agencies are not required to analyze effects over which they hold no regulatory authority).

FSIS' legal authority with respect to regulating working conditions extends only to FSIS inspection personnel.³⁶ OSHA, not FSIS, is the Federal agency responsible for establishment worker safety issues.³⁷ Although FSIS does not have the statutory authority to require that establishments adopt the PULSE study's recommendations, FSIS commends the report's recommendations to its inspected establishments as well as the resources available on OSHA's website.³⁸ FSIS retains the ability to slow line speeds should those speeds not allow FSIS to ensure that process control is maintained or that FSIS can perform an effective carcass-by-carcass inspection as required by law.

³⁶ Section 19 of the Occupational Safety and Health Act of 1970 holds Federal agencies responsible for providing safe and healthful working conditions for their own workers (29 U.S.C. 668).

³⁷ Of note, in February 2015, OSHA denied a 2013 petition for rulemaking from the Southern Poverty Law Center to end a mandatory standard on work speeds in the meatpacking and poultry industries. In the denial letter to the petitioner, OSHA stated, in part, that several factors contribute to MSDs, including the number of repetitions per shift, the force of the movements, the posture of the workers, and cool temperatures in the workplace. Therefore, “any effort to prevent MSDs in the meatpacking and poultry industries must take all of these factors into account, not just the line speeds.” Also in the denial letter, OSHA stated that the agency's limited resources at the time (rather than any lack of statutory or regulatory authority) did not allow for OSHA to move forward with a comprehensive analysis and rulemaking effort (https://www.regulations.gov/docket/FSIS-2025-0012).

³⁸ See, e.g., OSHA's Safety and Health Topics web page on Meatpacking, Meatpacking—Overview | Occupational Safety and Health Administration.

Even were FSIS mistaken in its interpretation of Seven County, the available evidence demonstrates that limiting establishments' line speeds is not an effective mechanism for reducing worker injuries. The PULSE study found that evisceration line speed was not associated with MSD risk. Rather, piece rate, a metric of job-specific line speed and staffing level, was associated with MSD risk. The absence of an association between evisceration line speed and job-specific MSD risk was due in part to higher job-specific staffing levels, lower job-specific line speed, or both, at establishments operating at higher line speeds in comparison to those operating at lower evisceration line speeds. Because line speeds do not meaningfully impact worker safety, the proposed increase in poultry establishment line speeds should not represent a marked change to establishment worker safety. The study's findings provide no basis for USDA to decline to increase the limit on NPIS establishment line speeds. FSIS is concerned with protecting the public health of consumers and ensuring that the poultry it inspects is safe for human consumption. Years of data and Agency analysis confirm that line speeds do not reduce FSIS' ability to ensure the safety of poultry products for consumers.

To the extent that FSIS was perceived to have regulated, or actually regulated, worker safety in the past, it acted ultra vires, or beyond its authorization. FSIS is committed going forward to act where it is statutorily authorized; to act otherwise would detract FSIS from its core, critical mission to protect consumers.³⁹ Because FSIS lacks the statutory authority to regulate establishment worker safety and the attestation relates to work-related conditions of establishment workers, the Agency is proposing to remove 9 CFR 381.45 and 381.46.

F. Proposed Changes to the NPIS Maximum Line Speed Rates

All NPIS Establishments

The regulation that established the maximum line speed for the NPIS does not specify where on the processing line this speed applies. FSIS has referred at times to the line speed with reference to inspection, at other times to the evisceration line speed, and at other times to both. As a practical matter, FSIS generally has not specified the point of measurement but instead assessed a singular maximum speed that can be maintained while also maintaining process control. FSIS is now requesting comment on its proposed clarification that “maximum line speed” in 9 CFR 381.69(a) refers to the time it takes for an inspector to effectively perform online carcass inspection procedures. The PPIA does not limit the speed of processing operations; however, this change aligns with the Act's requirement of a carcass-by-carcass inspection of each bird to ensure compliance with the Act's food safety objectives.⁴⁰ It is also consistent with FSIS' longstanding practice of conducting line speed checks at the point of inspection. FSIS Directive 6500.1 ⁴¹ does not expressly instruct the IIC to conduct line speed checks at the point of inspection. Nonetheless, the IIC has historically conducted line speed verification checks at the point of inspection because the directive instructs the IIC to assess the presentation of birds to online inspectors and verify line speed for the purpose of ensuring the inspectors are able to conduct statutorily mandated carcass-by-carcass inspections. If this proposed rule becomes final, FSIS would also update its directive to clarify its instructions for verifying maximum line speeds at the point of inspection.

⁴⁰ See 21 U.S.C. 455(b).

⁴¹ Available at: https://www.fsis.usda.gov/sites/default/files/media_file/2020-07/6500.1.pdf.

Under FSIS Directive 6500.1,⁴² IICs may slow the line if the establishment's procedures are not in control to prevent fecal and enteric pathogen contamination or when presentation of persistent unattended trim or processing defects affects the inspector's ability to adequately conduct a carcass-by- carcass inspection. FSIS is proposing to clarify in 9 CFR 381.69(d) that the IIC may slow establishment operations, when, in their judgement, there is a loss of process control, or a carcass-by-carcass inspection cannot be adequately performed within the time available due to the manner in which the birds are presented to the online carcass inspector or the health condition of the particular flock. FSIS is also proposing to clarify that the Agency may reduce the rate of establishment operations at any point in the slaughter operation if the IIC determines that the establishment is not maintaining process control or Inspection Program Personnel (IPP) are not able to perform the required inspections under the PPIA.

⁴² Available at: https://www.fsis.usda.gov/sites/default/files/media_file/2020-07/6500.1.pdf.

NPIS Young Chicken Establishments

FSIS reviewed and evaluated the findings of the Line Speed Study, together with the Agency's ongoing verification activities for establishments operating under poultry line speed waivers. FSIS also reviewed the conclusions and recommendations in the PULSE study. FSIS has determined that, in accordance with its statutory authority over food safety, the available information supports moving forward with rulemaking to permit NPIS young chicken establishments to operate at line speeds faster than 140 bpm and up to 175 bpm.

FSIS is proposing to amend the regulation that prescribes maximum line speeds under the NPIS to permit young chicken slaughter establishments to operate at line speeds up to 175 bpm (proposed 9 CFR 381.69(b)). The Agency has determined that it is not necessary to codify the waiver criteria previously applied to establishments seeking to operate at this speed. As explained above, the criteria were intended to help the Agency determine if establishments could maintain process control at faster line speeds. They are now unnecessary because FSIS has determined that establishments are able to maintain process control at faster line speeds and inspectors have the authority to slow the line if an individual establishment fails to maintain process control.

All NPIS establishments must operate in a manner that prevents adulteration and allows FSIS to conduct carcass-by-carcass inspection as required by the PPIA (21 U.S.C. 455(b)). All NPIS establishments must implement validated HACCP systems, maintain sanitation procedures, and prevent contamination of carcasses and parts by enteric pathogens and fecal material throughout the entire slaughter and dressing process (9 CFR part 416, 9 CFR part 417, and 9 CFR 381.65 and (g)). FSIS inspectors are present in every NPIS establishment and verify compliance with these requirements from the first day of operations under NPIS. If an establishment fails to maintain process control, FSIS may take immediate action, including reducing line speeds (see 9 CFR 381.69(c)). Thus, FSIS is also proposing to amend 9 CFR 381.69 to clarify that the IIC may reduce the rate of establishment operations at any point in the process if process control is not maintained or if FSIS cannot perform an effective carcass-by-carcass inspection. For example, under this proposed rule, the IIC would slow the line based on recurring Salmonella positive results or repeated regulatory public health enforcement actions. The proposed regulatory provision in 9 CFR 381.69(d) for slowing establishment operations is consistent with the food safety objectives of the earlier line speed waiver criteria for NPIS young chicken slaughter establishments. Accordingly, FSIS has concluded that the existing statutory and regulatory requirements, combined with the IIC's authority to reduce line speeds when necessary, provide the appropriate safeguards to ensure food safety. Because FSIS' regulatory requirements for maintaining process control apply from the beginning of NPIS operations, a mandatory one-year waiting period is unnecessary.

If this proposed rule is finalized, NPIS young chicken establishments would no longer need to obtain a waiver and participate in the SIP to operate at line speeds higher than 140 bpm and up to 175 bpm because participation in the SIP is limited to slaughter establishments operating under waivers. Establishments that are currently operating under line speed waivers would be allowed to continue to operate at line speeds up to 175 bpm. All NPIS establishments would continue to be required to collect and analyze pre-and post-chill samples for microbial organisms at the minimum frequencies prescribed in 9 CFR 381.65(g) to monitor their ability to maintain process control. Operating at a higher line speed is a change that could affect an establishment's hazard analysis or alter the HACCP plan. Therefore, if an establishment decides to operate under NPIS at line speeds faster than 140 bpm and up to 175 bpm, the establishment would need to reassess its HACCP plan and make any necessary changes to its HACCP system as required under 9 CFR 417.4(a)(3) before it begins to increase its line speed. Establishments currently operating under line speed waivers were required to address the inhibition or reduction of Salmonella in their HACCP systems as a condition of their waivers (83 FR 49048, 49050). Thus, establishments currently operating under line speed waivers have already reassessed their HACCP plans to address operating at line speeds faster than 140 bpm and up to 175 bpm and would not need to reassess their HACCP systems again.

FSIS has demonstrated that it is able to conduct carcass-by-carcass inspections, as required by the PPIA, at line speeds up to 175 bpm. Establishments are also able to maintain process control at those speeds. However, FSIS is also seeking comments on whether the Agency should allow NPIS establishments to operate at line speeds above 175 bpm, as authorities in many other peer countries do not set specific maximum line speed standards. For example, regulations in the European Union (EU) only require that line speeds must be compatible with animal welfare and food safety standards (EU Regulation (EC) No. 1099/2009). In the EU, veterinary authorities in each country assess whether processing establishments can operate at higher speeds without compromising animal welfare and food safety. Except for the Netherlands, all EU countries have no fixed national line speed limit. Instead, line speed is based on a regulated facility's ability to maintain effective stunning and bleeding, proper inspection, compliance with hygiene and animal welfare standards, and controlled and verifiable food safety throughout the process. FSIS in interested in receiving feedback on whether the EU model, which does not limit line speeds, is a model worthy of adoption in the United States.

Proposed Change to the Maximum Line Speed for NPIS Turkey Establishments

The maximum line speed for turkey slaughter establishments operating under the NPIS is currently 55 bpm. This line speed was based on FSIS' experience under HIMP and reflected the average maximum line speed for turkey establishments that had participated in the HIMP pilot. While the turkey establishments that participated in the HIMP pilot operated at an average maximum line speed of 55 bpm, at the time FSIS finalized the rule that established the NPIS, two HIMP turkey establishments had been operating at line speeds up to 60 bpm. Therefore, after FSIS finalized the NPIS rule, the Agency granted these two turkey establishments waivers to allow them to continue to operate at line speeds up to 60 bpm. One of these establishments has since discontinued operations but the other continues to operate under a line speed waiver.

FSIS acknowledges that the SIP data is limited, but FSIS' ongoing verification of the SIP data from the NPIS turkey establishment operating under a line speed waiver shows it is operating effectively while maintaining process control at 60 bpm and that other turkey slaughter establishments should be able to gain efficiency and maintain process control at 60 bpm. There are currently 22 turkey establishments operating under NPIS. Therefore, FSIS is proposing to amend 9 CFR 381.69(b) to change the maximum line speed for NPIS turkey establishments from 55 bpm to 60 bpm. This small increase would make the regulations more consistent with the maximum line speeds turkey establishments were operating under in the HIMP pilot and would allow NPIS turkey establishments to operate at up to 60 bpm without the need for a regulatory waiver. It is important to note that, under the proposal, FSIS retains the authority to reduce line speeds if a carcass-by-carcass inspection cannot be adequately performed within the time available due to the manner in which the birds are presented to the online carcass inspector, the health conditions of a particular flock, or factors that may indicate a loss of process control (9 CFR 381.69(c)).

II. Environmental Impact

Pursuant to the National Environmental Policy Act (42 U.S.C. 4321, et seq.) (NEPA), Federal agencies fulfill their NEPA obligation to study the effects of major Federal actions in one of three ways. For a major Federal action that will have significant environmental effects, the agency prepares a detailed Environmental Impact Statement (EIS) (42 U.S.C. 4336(b)(1)). If it is unclear whether the proposal will have significant effects, the agency may prepare a brief Environmental Assessment (EA) (42 U.S.C. 4336(b)(2)). Finally, categorical exclusions are classes of actions that normally do not have significant effects on the environment and do not require an EA or an EIS absent extraordinary circumstances (42 U.S.C. 4336(b)(2)). USDA's NEPA implementing regulations establish a categorical exclusion for specified categories of actions and the actions of certain USDA agencies and agency units (7 CFR 1b.3, 1b.4). USDA has determined that the listed agencies, including FSIS (7 CFR 1b.4(b)(6)), “conduct programs and activities that have been found to have no individual or cumulative effect on the human environment” (7 CFR 1b.4(a)). Accordingly, all FSIS actions are categorically excluded from preparation of an EA or EIS unless the Agency head determines that a particular action may have a significant environmental effect.

Under the proposed rule, expected sales of poultry products, rather than maximum line speed, would determine production levels in establishments. Allowing establishments to operate at faster line speeds may allow establishments to slaughter more efficiently but would not affect consumer demand for the establishments' products. Moreover, all establishments, regardless of line speed, are required to meet all local, state, and Federal environmental requirements. FSIS does not anticipate that increasing the line speed may have a significant environmental effect (7 CFR 1b.4(a)). Accordingly, this action is appropriately subject to the categorical exclusion from the preparation of an EA or an EIS as authorized under 7 CFR 1b.4 of the USDA regulations.

III. Executive Orders 12866, as Amended by 13563 and 14192

Executive Order (E.O.) 12866 provides that the Office of Information and Regulatory Affairs (OIRA) in the Office of Management and Budget will determine whether a regulatory action is significant as defined by E.O. 12866 and will review significant regulatory actions. This proposed rule has been designated an “economically significant” regulatory action under section 3(f) of E.O. 12866. E.O. 13563 reaffirms the principles of E.O. 12866 while calling for improvements in the Nation's regulatory system to promote predictability, to reduce uncertainty, and to use the best, most innovative, and least burdensome tools for achieving regulatory ends. FSIS has developed the proposed rule consistent with E.O. 13563. E.O. 14192, “Unleashing Prosperity Through Deregulation,” requires that any new incremental costs associated with certain significant regulatory actions “shall, to the extent permitted by law, be offset by the elimination of existing costs associated with at least 10 prior regulations.” This proposed rule, if finalized as proposed, is expected to be an E.O. 14192 deregulatory action.

Need for the Rule

FSIS is proposing to amend the poultry products inspection regulations to permit NPIS young chicken and turkey establishments to operate at faster line speeds. FSIS is also proposing to define “maximum line speed” as the time it takes for an inspector to effectively perform online carcass inspection procedures and to clarify when FSIS may direct establishments to operate at a reduced line speed. FSIS is also proposing to amend the regulations to remove the requirement that NPIS establishments submit an annual attestation stating that they maintain a program to monitor and document work-related conditions of establishment workers.

As food processing and safety technology advances, FSIS has worked to reform its regulations with a focus on HACCP-based process control, enabling establishments to have more flexibility in tailoring their production processes. This proposed rule is needed to eliminate unnecessary barriers to innovation and efficiency while maintaining food safety.

Baseline

Young Chicken Establishments

In 2024, there were 257 federally inspected establishments that slaughtered just over 9.4 billion young chickens,⁴³ with an estimated retail value of over $114 billion and an average retail price of $2.43 per pound.⁴⁴ Broiler production at federally inspected establishments grew 1 percent annually from 2020-24. The majority of this production, 84 percent, was consumed domestically, and annual consumption grew by 1.3 percent, on average, in that same period.⁴⁵ Of the 257 young chicken slaughter establishments, 148 operated under NPIS in 2024, which accounted for 94 percent of all young chicken slaughtered in that year (Table 3a).⁴⁶

⁴³ FSIS, Public Health Information System (PHIS) database, accessed March 2025.

⁴⁴ FSIS calculated this value using the 2024 average retail broiler composite price of $2.43 per pound and a 2024 U.S. production estimate of 46,994 million pounds. Sources: USDA, Economic Research Service (ERS), “Meat Price Spreads, Retail prices for beef, pork, poultry cuts, eggs, and dairy products (dataset),” March 13, 2025, https://www.ers.usda.gov/data-products/meat-price-spreads/; USDA, “World Agricultural Supply and Demand Estimates (WASDE), Historical WASDE Report Data,” March 11, 2025, https://www.usda.gov/historical-wasde-report-data-3. Note: retail broiler composite price is a value based on wholesale prices for whole birds and chicken parts developed to estimate the average retail value of all broiler production. Source: USDA, ERS, “Meat Price Spreads—Documentation” March 13, 2025, https://www.ers.usda.gov/data-products/meat-price-spreads/documentation.

⁴⁵ USDA, ERS, “Livestock and Meat Domestic Data,” All supply and disappearance, Meat supply and disappearance tables, historical (dataset), March 27, 2025 https://www.ers.usda.gov/data-products/livestock-meat-domestic-data/; USDA, ERS, “Agricultural Baseline Database—Visualization: U.S. Agricultural Baseline Projections,” https://www.ers.usda.gov/data-products/agricultural-baseline-database/visualization-us-agricultural-baseline-projections, February 18, 2025.

⁴⁶ FSIS, PHIS database, accessed March 2025.

Table 3a—Summary of Young Chicken Establishments, 2024 Production
Poultry class | Number of establishments | Slaughtered headcount (millions) | Portion of young chicken slaughtered in 2024 (%)
Young Chicken | 257 | 9,446 | 100
NPIS Young Chicken | 148 | 8,884 | 94
NPIS Young Chicken—Waiver ¹ | 44 | 3,082 | 33
Non—NPIS Young Chicken | 109 | 562 | 6
¹ The waiver in this table refers to the line speed waiver.

In 2024, there were 44 NPIS establishments operating under line speed waivers, which required the establishments to participate in the Agency's SIP, meet certain other criteria, and allowed them to operate at line speeds up to 175 bpm.⁴⁷ On average, these 44 establishments slaughtered 70 million birds in 2024 across all production lines and shifts. FSIS also analyzed slaughter headcount on a per line and per shift basis at these establishments to account for differences in establishment composition. In 2024, the minimum annual slaughtered per line per shift at these establishments was 13.3 million birds. Additional establishments have shown interest in operating under a line speed waiver; however, the Agency stopped granting line speed waivers in 2020, suggesting additional establishments would operate at faster line speeds if this rule were finalized.

⁴⁷ In March 2023, FSIS granted waivers to 49 establishments that applied for the modified waiver program. The number of establishments operating with line speed waivers changed over time due to waiver revocations or establishment closures.

For the purpose of this Proposed Regulatory Impact Analysis (PRIA), the Agency assumed additional NPIS young chicken slaughter establishments that do not currently have a line speed waiver, and had slaughter volumes similar to NPIS waiver establishments, may choose to operate at faster line speeds. When reviewing an NPIS non-waiver establishment's production volume, FSIS considered an establishment's total annual slaughtered headcount and per line per shift slaughter headcount. For the lower bound, FSIS included 23 establishments with an annual slaughtered headcount of at least 70 million birds in 2024. For the mid-point estimate, FSIS included 58 establishments with an average annual slaughtered headcount of over 13.3 million head per line per shift. FSIS included an upper estimate of 85 establishments with an average annual slaughtered headcount of at least 10 million head per line per shift. Because of their volume, these establishments likely operate near the current regulatory maximum line speed of 140 bpm and are the most likely to increase their line speeds if the proposed rule is finalized. NPIS young chicken establishments with an annual average slaughtered headcount of less than 10 million birds per line per shift are not likely to run at the current regulatory maximum line speed of 140 bpm, do not process enough young chicken to likely benefit from operating above 140 bpm, and are not likely to increase their line speeds in response to this rule. Table 3b shows the number of establishments included in the PRIA and their market shares.

Table 3b—Summary of Young Chicken Establishments for PRIA, 2024 Production
Range of NPIS young chicken establishments for PRIA (total annual slaughter headcount) | Number of establishments | Slaughtered headcount (millions) | Portion of young chicken slaughtered in 2024 (%)
Lower (>70 million heads) | 23 | 2,142 | 23
Mid (>13.3 million heads line/shift) | 58 | 3,641 | 39
Upper (>10 million heads line/shift) | 85 | 4,960 | 53

The range of NPIS establishments currently operating without a line speed waiver would experience costs and benefits associated with operating at line speeds up to 175 bpm if they choose to do so. The Agency assumes these NPIS young chicken establishments would adopt increased line speeds over five years if this rule is finalized, with approximately 20 percent of establishments increasing their line speeds each year.⁴⁸ FSIS also assumed no additional establishments would convert to NPIS to operate at higher line speeds, i.e., higher than 140 and up to 175 bpm. This is because young chicken establishments that would not operate under NPIS are small producers, representing 42 percent of all establishments but contributing only 6 percent of total production (Table 3a). FSIS incorporated these assumptions into the following costs and benefits estimates. The Agency seeks comments on the estimated number of establishments that would choose to increase their line speeds, as well as their change in line speeds, and the costs and benefits associated with this proposed rule.

⁴⁸ FSIS assumes NPIS young chicken establishments may need time to begin operating at faster line speeds. For instance, some of the NPIS establishments are currently operating below 140 bpm and might not be able to quickly increase their line speeds to up to 175 bpm. In addition, the industry may need more time to adapt as more establishments start operating at faster line speeds.

Turkey Establishments

In 2024, there were 110 federally inspected establishments that slaughtered approximately 199 million turkeys,⁴⁹ with an estimated retail value of over $4.8 billion and an average retail price of $0.94 per pound (Table 3c).⁵⁰ Turkey production declined at an average rate of 2.9 percent annually from 2020-24. Most of U.S. turkey production (91 percent) was consumed domestically, and annual consumption declined by 3.2 percent, on average, from 2020-2024.⁵¹

⁴⁹ FSIS, PHIS database, accessed March 2025.

⁵⁰ FSIS calculated this value using a 2024 national price for 8-16-pound turkey hens of $0.94 per pound and a 2024 U.S. production estimate of 5,121 million pounds. Sources: USDA, WASDE, “Historical WASDE Report Data,” April 2025, https://www.usda.gov/historical-wasde-report-data-3.

⁵¹ USDA, ERS, “Livestock and Meat Domestic Data,” All supply and disappearance, Meat supply and disappearance tables, historical (dataset), March 27, 2025 https://www.ers.usda.gov/data-products/livestock-meat-domestic-data/; USDA, WASDE, “Historical WASDE Report Data,” April 2025, https://www.usda.gov/historical-wasde-report-data-3.

There were 22 turkey establishments operating under NPIS in 2024, including one establishment with a line speed waiver.⁵² NPIS turkey establishments accounted for approximately 79 percent of all turkey slaughtered in that year. FSIS does not anticipate significant changes in the turkey industry from allowing all NPIS turkey establishments to operate at speeds up to 60 bpm. FSIS is seeking comments on the potential number of NPIS turkey establishments that would operate above 55 bpm, comments on whether NPIS turkey establishments would increase their line speeds, and comments on the costs and benefits associated with this proposed rule.

⁵² One turkey establishment previously operated under a line speed waiver but withdrew from the program in 2019. FSIS, PHIS database, accessed March 2025.

Table 3c—Summary of Turkey Establishments, 2024 Production
Turkey establishments | Number of establishments | Slaughtered headcount (millions) | Share of turkey slaughtered in 2024 (%)
All NPIS Turkey | 22 | 158 | 79
All Other | 88 | 41 | 21
Total | 110 | 199 | 100

Estimated Cost of the Proposed Rule

Establishments that choose to operate at line speeds faster than 140 and up to 175 bpm, may incur costs associated with labor, training, capital equipment, and HACCP plan reassessment. FSIS also estimated a de minimis cost of $90 per firm for rule familiarization. FSIS used input from industry, including ongoing SIP data, and Agency experts to estimate the potential costs associated with NPIS establishments voluntarily operating at line speeds of up to 175 bpm. FSIS anticipates that certain young chicken establishments would operate at line speeds faster than 140 and up to 175 bpm, if this rule were finalized. Establishments currently operating under waivers (i.e., young chicken and turkey NPIS establishments with a line speed waiver) would not incur any additional quantifiable costs as a result of this proposed rule.

Additional Labor Costs

The NPIS young chicken establishments without waivers that are likely to choose to increase their line speeds may choose to hire up to 2 sorters, 1 to 32 other production employees, and up to 2 managers, per line per shift, when operating at line speeds faster than 140 bpm and up to 175 bpm. Based on industry input and Agency expertise, this PRIA assumed establishments would hire one additional sorter, 11 additional production employees, and one additional manager per line and per shift for its mid-cost estimate. The establishments' staffing levels can vary based on the level of automation, product flow and establishment design, among other factors. The Agency seeks comments on the number and type of additional establishment employees an establishment would need to hire when operating at faster line speeds. Combined, the 58 establishments used in the mid-cost estimate may hire an additional 225 to 8,100 employees as a result of the rule, with a mid-estimate of 2,925 additional employees. The 23 establishments used in the lower-bound may hire an additional 141 to 5,076 employees as a result of the rule, with a mid-estimate of 1,833 additional employees, and the 85 establishments used in the upper-bound estimate may hire an additional 332 to 11,952 employees with a mid-estimate of 4,316 additional employees. According to the Bureau of Labor Statistics (BLS), the estimated annual median wage for a sorter is $41,040; ⁵³ applying a benefits and overhead factor of two brings the total annual labor cost per sorter to $82,080. Likewise, the total annual labor cost per production worker is $78,720 and per manager is $235,900, in 2024 dollars. FSIS estimates the wages and benefits associated with the mid-estimate of 58 establishments range from $13.30 to $532.92 million, with a mid-estimate of $199.98 million, annualized assuming a 5-year adoption period and discounted at a 7 percent rate over 10 years, Table 4.

⁵³ BLS Occupational Employment Statistics, May 2024. National Industry-Specific Occupational Employment and Wage Estimates. NAICS 311600-Animal Slaughtering and Processing. Accessed on 04/2/2025 Occupation codes 11-3051, 51-3023, and 51-3022 were used for managers, sorters, and production employees, respectively. https://data.bls.gov/oes/#/industry/311600, (accessed April 2025).

Table 4—Additional Labor Costs
Line speed changes | Range of establishments: Lower (23 est.) | Range of establishments: Mid-point (58 est.) | Range of establishments: Upper (85 est.)
Costs (million $)
Lower | 8.33 | 13.30 | 20.33
Mid | 125.32 | 199.98 | 305.69
Upper | 333.96 | 532.92 | 814.64
Estimates are annualized, assuming a 5-year adoption period and discounted at a 7 percent rate over 10 years. Numbers may not sum due to rounding.

Training Costs

Establishments are expected to incur costs associated with training any new employees hired as a result of the proposed rule. This PRIA assumes that the cost of initial training, continuing education, and initial training due to turnover are similar to the cost of training production employees in HACCP. The Agency seeks comments on the type and cost of training associated with this proposed rule. FSIS estimates the one-time cost associated with initially training the additional sorters and production workers would range from $399 to $1,197 per new employee, with a mid-point cost of $798 in 2024 dollars. The one-time cost associated with initially training managers would range from $1,571 to $4,712 per new manager, with a mid-point cost of $3,142 in 2024 dollars.⁵⁴ The total one-time mid-point initial training cost for the 58 establishments is approximately $0.33 million, with a range from $0.01 to $1.32 million, assuming a 5-year adoption period and annualized at the 7 percent discount rate over 10 years, Table 5.

⁵⁴ FSIS updated the wage estimate and HACCP training costs in the “Cost of Food Safety Investments” using 2024 wages from the U.S. Bureau of Labor Statistics and the 2024 Implicit Price Deflator for the Gross Domestic Product. RTI, (2015). Costs of Food Safety Investments (Table 4-4). Contract No. AG-3A94-B-13-0003). Prepared by Catherine L. Viator, Mary K. Muth, Jenna E. Brophy, https://www.fsis.usda.gov/sites/default/files/media_file/documents/Costs_of_Food_Safety_Investments_FSIS-2022-0013.pdf; BLS Occupational Employment Statistics, May 2024. National Industry-Specific Occupational Employment and Wage Estimates. NAICS 311600-Animal Slaughtering and Processing. Accessed on 04/2/2025 Occupation codes 11-3051, 51-3023, and 51-3022 were used for managers, sorters, and production employees, respectively. https://data.bls.gov/oes/#/industry/311600, (accessed April 2025).; U.S. Bureau of Economic Analysis (BEA), “Table 1.1.9. Implicit Price Deflators for Gross Domestic Product,” https://apps.bea.gov/iTable/?reqid=19&step=3&isuri=1&1921=survey&1903=13 accessed April 11, 2025.

Table 5—Training Costs
Training type | Line speed changes | Range of establishments: Lower (23 est.) | Range of establishments: Mid (58 est.) | Range of establishments: Upper (85 est.)
Costs (million $)
Initial Training | Lower | 0.01 | 0.01 | 0.02
| Mid | 0.21 | 0.33 | 0.49
| Upper | 0.83 | 1.32 | 1.94
Continuing Education Training | Lower | 0.002 | 0.003 | 0.005
| Mid | 0.06 | 0.10 | 0.15
| Upper | 0.26 | 0.41 | 0.61
Training Due to Turnover | Lower | 0.01 | 0.02 | 0.03
| Mid | 0.42 | 0.67 | 0.99
| Upper | 1.64 | 2.62 | 3.89
Total | Lower | 0.02 | 0.03 | 0.05
| Mid | 0.69 | 1.10 | 1.63
| Upper | 2.73 | 4.35 | 6.44
Estimates are annualized, assuming a 5-year adoption period and discounted at a 7 percent rate over 10 years. Numbers may not sum due to rounding.

This analysis assumes annual continuing education costs to be similar to annual HACCP refresher training costs, which range from $39 to $116 per sorter and production employee, with a mid-point of $77, and range from $101 to $303 per manager, with a mid-point of $202, in 2024 dollars.⁵⁵ Using a retention rate of 63.3 percent,⁵⁶ the mid-point estimate for the 58 establishments for annual continuing education cost is $0.10 million, with a range from $0.003 to $0.41 million, Table 5.

⁵⁵ FSIS updated the wage estimate in the “Cost of Food Safety Investments” using 2024 wages from the U.S. Bureau of Labor Statistics. RTI, (2015), Costs of Food Safety Investments (Table 4-4), Contract No. AG-3A94-B-13-0003).\, Prepared by Catherine L. Viator, Mary K. Muth, Jenna E. Brophy, https://www.fsis.usda.gov/sites/default/files/media_file/documents/Costs_of_Food_Safety_Investments_FSIS-2022-0013.pdf; BLS, Occupational Employment and Wage Estimates, 2024: 51-3023 Slaughterers and Meat Packers, in Industry Animal Slaughtering and Processing, May 2024, https://data.bls.gov/oes/#/industry/311600, accessed April 2025.

⁵⁶ The BLS reported that the nondurable goods manufacturing industry had a separation rate of 36.7 percent in 2024. The total separation rate is the sum of the 12 months of rates in 2024. The retention rate is thus 63.3 percent (100 percent−36.7 percent). BLS, “Job Openings and Labor Turnover Survey, not seasonally adjusted (2024),” (JTU340000000000000TSR), accessed April 11, 2025. Data can be accessed at https://data.bls.gov/series-report.

Annual training due to turnover is equal to initial training cost. Using a turnover rate of 36.7 percent,⁵⁷ the mid-point estimate for the 58 establishments for annual training cost due to turnover is $0.67 million, and ranges from $0.02 to $2.62 million, Table 5.

⁵⁷ The BLS reported that the nondurable goods manufacturing industry had a separation rate of 36.7 percent in 2024. The total separation rate is the sum of the 12 months of rates in 2024.

BLS, “Job Openings and Labor Turnover Survey, not seasonally adjusted (2024),” (JTU340000000000000TSR), accessed April 11, 2025. Data can be accessed at https://data.bls.gov/series-report.

Capital Equipment

Based on industry input and Agency experts, most of the establishments likely impacted by this proposed rule already have the necessary equipment to operate at line speeds faster than 140 bpm and up to 175 bpm and will not incur any additional capital costs. Some establishments may incur minor costs to modify their current equipment, such as adding a washer or window to their inside-outside bird washer or adding a nozzle or spray bar to their line. This PRIA assumes the cost of modifying equipment at some establishments is similar to the cost of adding a post-chill spray bar. Based on the Research Triangle Institute's (RTI) Costs of Food Safety Investments report,⁵⁸ the combined mid-point annual cost of purchasing, installing, and utilities and maintenance of a post-chill spray bar at a large establishment is $0.05 million per establishment, with a range of $0.03 to $0.08 million in 2024 dollars. As a mid-point estimate, FSIS assumed 29 establishments would incur this cost, or approximately half of the 58 establishments. FSIS assumed the same for the upper and lower bound, with 12 and 43 establishments, respectively, incurring this capital equipment cost. The total estimated annual equipment cost for the mid-estimate ranges from $0.63 to $1.73 million, with a mid-point estimate of $1.18 million, 2024 dollars, Table 6. The Agency is seeking comments on the types of capital expenses establishments would incur due to this proposed rule.

⁵⁸ FSIS updated the post-chill spray bar estimate in the “Cost of Food Safety Investments” using the 2024 Implicit Price Deflator for the Gross Domestic Product. RTI, (2015), Costs of Food Safety Investments (Table 4-8), Contract No. AG-3A94-B-13-0003). Prepared by Catherine L. Viator, Mary K. Muth, Jenna E. Brophy, https://www.fsis.usda.gov/sites/default/files/media_file/documents/Costs_of_Food_Safety_Investments_FSIS-2022-0013.pdf; BEA, “Table 1.1.9. Implicit Price Deflators for Gross Domestic Product,” accessed April 11, 2025.

Table 6—Capital Equipment
Line speed changes | Range of establishments: Lower (23 est.) | Range of establishments: Mid-point (58 est.) | Range of establishments: Upper (85 est.)
Costs (million $)
Lower | 0.26 | 0.63 | 0.93
Mid | 0.49 | 1.18 | 1.73
Upper | 0.71 | 1.73 | 2.53
Estimates are annualized, assuming a 5-year adoption period and discounted at a 7 percent rate over 10 years. Numbers may not sum due to rounding.

HACCP Plan Reassessment Cost

Under the proposed rule, if an NPIS young chicken establishment decides to operate at line speeds faster than 140 bpm and up to 175 bpm, the establishment would need to reassess its HACCP plan and make any necessary changes before it begins to increase its line speed. Assuming this work is completed by a production worker with an hourly labor cost of $38.62,⁵⁹ a HACCP plan reassessment cost per establishment ranges from $1,159 ⁶⁰ to $3,476, with a mid-point of $2,317. This represents a one-time cost to all 58 establishments ranging from $0.004 to $0.012 million, with a mid-point of $0.008 million, annualized, assuming the 5-year adoption period and discounted at the 7 percent discount rate over 10 years, Table 7.

⁵⁹ RTI, Costs of Food Safety Investments (Table 4-1), Contract No. AG-3A94-B-13-0003), Prepared by Catherine L. Viator, Mary K. Muth, Jenna E. Brophy, https://www.fsis.usda.gov/sites/default/files/media_file/documents/Costs_of_Food_Safety_Investments_FSIS-2022-0013.pdf.

⁶⁰ The wage estimate includes a labor cost of $19.31 per hour for a production employee multiplied by a benefits and overhead factor of two. BLS, Occupational Employment and Wage Estimates, 2024: 51-3023 Slaughterers and Meat Packers, in Industry Animal Slaughtering and Processing, May 2024, https://data.bls.gov/oes/#/industry/311600.

Table 7—HACCP Plan Reassessment
Line speed changes | Range of establishments: Lower (23 est.) | Range of establishments: Mid-point (58 est.) | Range of establishments: Upper (85 est.)
Costs (million $)
Lower | 0.002 | 0.004 | 0.006
Mid | 0.003 | 0.008 | 0.011
Upper | 0.005 | 0.012 | 0.017
Estimates are annualized, assuming a 5-year adoption period and discounted at a 7 percent rate over 10 years. Numbers may not sum due to rounding.

Summary of Costs of the Proposed Rule

Table 8 summarizes the total industry costs for the proposed rule. Labor represents approximately 99 percent of the costs for NPIS young chicken establishments if they voluntarily choose to increase their line speeds. The mid-point of all costs for the mid-estimate of 58 establishments is roughly $202.27 million annualized, assuming the 5-year adoption period and discounted at the 7 percent rate over 10 years. The upper-bound annualized cost estimate for the 85 establishments is $823.63 million, and the lower-bound annualized cost estimate for the 23 establishments is roughly $9 million at the 7 percent discount rate over 10 years, assuming a 5-year adoption period. FSIS, however, estimates a relatively likely scenario results in cost savings that falls between $13.97 to $539.01 million which is based on the lower and upper range of line speeds for the mid-bound 58 establishments, discounted at 7 percent over 10 years, assuming a 5-year adoption period.

Table 8—Total Industry Costs
Types of costs | Range of establishments: Lower (23 est.) | Range of establishments: Mid-point (58 est.) | Range of establishments: Upper (85 est.)
Costs (million $)
Hiring Additional Employees | 8.33 | 199.98 | 814.64
Initial Training | 0.01 | 0.33 | 1.94
Annual Continuing Education | 0.00 | 0.10 | 0.61
Annual Training Due to Turnover | 0.01 | 0.67 | 3.89
New Equipment | 0.26 | 1.18 | 2.53
HACCP Plan Reassessment | 0.00 | 0.01 | 0.02
Total Annualized Costs Over 10 Years: 7 Percent Discount Rate | 8.62 | 202.27 | 823.63
Note: Lower-bound cost estimates are for both the lower-bound costs and the lower-bound estimate of establishments (23). Upper-bound cost estimates are for both the upper-bound cost estimates and the upper-bound estimate of establishments (85). The mid-cost estimates are for both the mid-costs and the mid-estimate of establishments (58). Estimates are annualized, assuming a 5-year adoption period and discounted at a 7 percent rate over 10 years. Numbers may not sum due to rounding.

Estimated Benefits of the Proposed Rule

Changes in Production Efficiency

If the proposed rule were finalized, the 44 NPIS establishments operating with a line speed waiver would benefit from the regulatory certainty of being able to operate at line speeds up to 175 bpm and would no longer have to submit SIP data under the waiver. FSIS assumes a range of NPIS establishments between 23 and 85 with a midpoint of 58 NPIS establishments currently operating without a waiver would likely operate at an increased line speed above the current 140 bpm limit. At the midpoint, establishments that may increase their line speeds in response to this proposal accounted for 38.5 percent of young chicken slaughtered in 2024, ranging from 22.7 to 52.7 percent at the lower and upper estimates, respectively.

For this analysis, FSIS estimated a range in line speed increases based on the average line speeds from the 44 NPIS young chicken establishments with waivers. Average line speed increases from these establishments ranged from 4.3 to 25.0 percent faster than the 140 bpm maximum line speed, with an average of 15.0 percent.⁶¹ However, because industry would need time to modify their operations in response to the proposed rule, the Agency assumed these NPIS establishments would adopt increased line speeds over five years, with approximately 20 percent of establishments increasing their line speeds each year. Table 9 shows the estimated increases in efficiency for the mid-point 58-establishment adoption scenario. For example, in year one, industry could experience an increase in efficiency of 1.16 percent (15.0 percent × 7.71 percent), ranging from 0.33 percent (4.3 percent × 7.71 percent) to 1.93 percent (25.0 percent × 7.71 percent). FSIS estimates the 58 establishments would reach full efficiency beginning in year five, with the mid-point estimate of 5.78 percent, ranging from 1.65 to 9.64 percent. If the lower-bound estimate of 23 establishments were to increase their line speeds by 4.3, 15.0, or 25.0 percent, this could result in an increase in efficiency of 0.97, 3.40, or 5.67 percent, respectively. Likewise, if the upper-bound estimate of 85 establishments were to increase their line speeds by 4.3, 15.0, or 25.0 percent, this could result in an increase in efficiency of 2.25, 7.88, or 13.13 percent, respectively. FSIS is asking for comments on the number of establishments that would increase their line speeds, as well as on the expected increased line speed rates.

⁶¹ Under SIP, FSIS collected average line speed information from the 44 NPIS young chicken establishments with line speed waivers. For the lower-bound estimate, FSIS calculated the average line speed increase of the bottom 25 percent of establishments, while for the upper-bound estimate the Agency used the top 25 percent.

Table 9—Change in Production Efficiency Over 10 Years for the 58 Establishments in the Mid-Point Estimate
Year | Portion of 2024 young chicken slaughtered headcounts (%) | Production efficiency gain (%): Low (4.3%) | Production efficiency gain (%): Mid (15.0%) | Production efficiency gain (%): High (25.0%)
1 | 7.71 | 0.33 | 1.16 | 1.93
2 | 15.42 | 0.66 | 2.31 | 3.85
3 | 23.13 | 0.99 | 3.47 | 5.78
4 | 30.83 | 1.32 | 4.63 | 7.71
5 | 38.54 | 1.65 | 5.78 | 9.64
6 | 38.54 | 1.65 | 5.78 | 9.64
7 | 38.54 | 1.65 | 5.78 | 9.64
8 | 38.54 | 1.65 | 5.78 | 9.64
9 | 38.54 | 1.65 | 5.78 | 9.64
10 | 38.54 | 1.65 | 5.78 | 9.64
Note: The change in line speed assumes an increase from 140 bpm and production efficiency gain for the 58 establishments is calculated by multiplying the share of young chicken slaughtered headcount by the estimated line speed increases of 4.3, 15.0, and 25.0 percent for low, mid, and high production efficiency gain, respectively. Establishments would reach full efficiency, as presented in this table, starting in year five. Numbers may not sum due to rounding.

Cost Savings From Production Efficiency Gains

NPIS young chicken slaughter establishments may obtain the efficiency gains from increasing their maximum line speed through multiple ways. For example, establishments may choose to process more birds per minute while reducing their hours of operation. This flexibility would allow establishments to optimize their productivity and potentially lower production costs. Further, operating the line speed up to 175 bpm would provide establishments enhanced flexibility to increase their line speed in a limited or intermittent manner to account for changes in daily production, such as unexpected stoppages, equipment breakdowns, inclement weather, and supply chain disruptions.

Changes in Retail Prices and Cost Savings

In discussing potential next steps of this analysis, FSIS uses a standard partial equilibrium model ⁶² and publicly available data to illustrate estimated benefits associated with authorizing NPIS establishments to operate at line speeds of up to 175 bpm.⁶³ The results of such an analysis include potential retail price changes and industry cost savings. The Agency seeks comments on the model and assumptions used in this analysis.

⁶² In this linear model, P = ab−(1/b) Qd represents the poultry products inverse market demand equation, while P = c/d + (1/d) Qs represents the poultry products inverse market supply equation, keeping all other factors affecting both demand and supply constant. Further explanation about partial equilibrium and comparative statics can be found in Varian, Hal R., “Intermediate Microeconomics a Modern Approach,” seventh edition, 2006, W.W. Norton & Company.

⁶³ FSIS used the values of −0.43 for the elasticity of demand (e^d) and 0.215 for the elasticity of supply (e^s). These elasticities were, respectively, adapted from Meekhof, Ronald L., Mary K. Muth, Robert H. Beach, Shawn A. Karns, Justin L. Taylor, and Catherine L. Viator. “Poultry Slaughter and Processing Sector Facility-Level Model.” Research Triangle Institute, North Carolina, United States (2006). Contract No. 53-3A94-0-12, Delivery Order 10 April 2006, https://www.rti.org/sites/default/files/resources/poultry_slaughter.pdf.

FSIS established the initial equilibrium condition using the 2024 poultry products total supply of 47 billion pounds, Qo, and the average 2024 ERS retail broiler composite price of roughly $2.43 per pound, Po.⁶⁴ FSIS assumed that increases in production efficiency, ef, can be represented by increasing the market supply (Table 9). The Agency estimated that, everything else constant, with a 5.78 percent mid-point increase in production efficiency in years 5 through 10,⁶⁵ the new equilibrium price for poultry products would be $2.26 per pound, or approximately a 7 percent decrease [(($2.26-$2.43)/$2.43) × 100] (Table 10), and the new equilibrium quantity of poultry products would be approximately 48.4 billion pounds.⁶⁶ A decrease from $2.43 to $2.26 per pound is a reduction of over 7 percent, the Agency seeks comment on how a smaller in magnitude efficiency gain of 5.78 percent could prompt such a decrease in price.

⁶⁴ FSIS obtained the 2024 quantity of young chicken products of approximately 47 billion pounds from USDA, “World Agricultural Supply and Demand Estimates (WASDE), Historical WASDE Report Data,” March 11, 2025, https://www.usda.gov/historical-wasde-report-data-3. The 2024 retail broiler composite price of approximately $2.43 per pound is from USDA, ERS, “Meat Price Spreads, Historical monthly price spread data for beef, pork, broilers (dataset),” March 13, 2025, https://www.ers.usda.gov/data-products/meat-price-spreads/.

⁶⁵ NPIS establishments are assumed to reach the full production efficiency in five years if this rule is finalized (Table 9). Hence, the production efficiency gain will remain the same for years 5 through 10.

⁶⁶ First, FSIS calculated the coefficients of these models using the data and elasticities: where b = −e^d × Qo/Po = 0.43 × 47/2.43 = 8.3, a = Qo + bPo = 47 + 8.3 × 2.43 = 67.2, d = e^s × Qo/Po = 0.215 × 47/2.43 = 4.2 and c = −Qo + dPo= −47 + 4.2 × 2.43 = −36.9. The coefficient a is the level of demand for poultry products as the broiler composite retail price is set to zero, while the coefficient c/d is interpreted as the price level of poultry products that is needed to cover all the fixed costs for the young chicken industry. The parameter ef represents the estimated efficiency gains across the industry at the 10-year adoption period of 5.78 percent at the mid-point (Table 9). While keeping the elasticity of supply constant, the Agency estimated the new equilibrium composite retail price using the identity P^new = (a + c(1 + ef)) / (b + d) then P^new = (67.2−(36.9 × (1 + 5.78%))) / (8.3 + 4.2) which would be approximately $2.26 per pound and quantity of poultry products as Q^new = a−bP^new = [67.2−(8.3 × 2.27)] billion pounds which would be approximately 48.4 billion pounds. Note that numbers may not sum due to rounding. Calculating P^new = (a + c(1 + ef)) / (b + d) implies that efficiency gain percentage ef could be applied at the Q-axis intercept, and feedback is requested on th is practice of estimating the shift of the supply curve in a manner that emphasizes a distant-from-equilibrium point.

There are limitations with using a linear model to estimate equilibrium prices and quantities to approximate cost savings associated with this rule. Allowing establishments to increase their line speeds could reduce their production costs, such as their average per unit labor costs as establishments process more young chickens per hour. FSIS estimated these reduced costs as industry cost savings associated with this proposed rule by calculating the difference in total variable costs (TVC) pre- and post-implementation for each of the 10 years in this analysis.⁶⁷ For example, FSIS estimated the pre-implementation TVC in year 5 to be approximately $12.28 billion, and the post-implementation TVC to be approximately $11.76 billion.68 69 FSIS used the estimated increases in production efficiency, as outlined in Table 9, to estimate the post-implementation TVC. Hence, starting in year five and assuming the 58 NPIS establishments increase their line speeds by 15.0 percent, the poultry industry could save approximately $518 million ($11.76-$12.28 billion) in production costs. The combined mid-point annual cost savings are $386 million, annualized assuming the 5-year adoption period and a 7 percent discount rate over 10 years,⁷⁰ with a range of $107 to $662 million (Table 10).

⁶⁷ In a simplified competitive market assumption, the additional cost to produce additional pounds of poultry products, known as marginal costs, is approximated by the market supply. In addition, the difference between the estimated equilibrium price and quantity supplied pre- and post-implementation can be interpreted as a change in the total variable costs of production. This change represents the decrease in such production costs as a result of production efficiency gains. For the linear market supply equation, FSIS used the standard formula to estimate the TVC for producing poultry products as TVC = ½ × P × (Q−c), where P and Q are the established equilibrium composite retail price and quantity of poultry products in the market, respectively, and c is as defined above.

⁶⁸ TVC^(per) would be approximately $12.28 billion, ½ × $2.43 per pound × (47−36.9) billion pounds, where c is approximately 36.9 billion pounds, which is the amount of production calculated by setting P = 0 in Qs = 36.9 + 4.2P. Note that numbers may not sum due to rounding.

⁶⁹ TVC^(post) would be approximately $11.76 billion, ½ × $2.26 per pound × (48.4−38) billion pounds, where c^new is approximately 38 billion pounds which is calculated using the new equilibrium and market supply equation but keeping price elasticity of supply constant (0.215), c^new = −Q^new + d^new × P^new where d^new= e^s × Q^new / P^new. Note that numbers may not sum due to rounding.

⁷⁰ After adding the annual present value estimates from year 1 to 10 for the mid-point estimate, FSIS estimated the total cost savings for the young chicken industry associated with this proposed rule at $2,712 million, or $386 million annualized over 10 years, assuming a 7 percent discount rate. Total cost savings = sum of present values / ((1− (1 + discount rate)^(−total number of years)) / (discount rates)) = $2,712 million/((1−(1 + 7%)^(−10)) / (7%)) = $386 million. This can also be calculated using Microsoft Excel's PMT function = PMT (7%, 10, 2712 × −1) = $386 million. Note that numbers may not sum due to rounding.

Using the same model for the range of estimates (lower-bound estimate of 23 establishments with a 4.3 percent line-speed increase and upper-bound estimate of 85 establishments with a 25 percent line-speed increase), potential industry benefits from cost savings would range from approximately $62 to $926 million, annualized assuming a 5-year adoption period and a 7 percent discount rate over 10 years. With the same specification, the retail price would potentially decrease by a range of 1.18 to 15.98 percent. FSIS, however, estimates that the range of benefits from cost savings would likely fall within the lower- and upper-bounds of line speeds increases for the midpoint estimate of 58 establishments, $107 to $662 million, annualized assuming a 5-year adoption period and a 7 percent discount rate over 10 years, Table 10. This benefit could be translated into an average cost saving of $4.10 per 100 head of young chickens ($386 million/9.4 billion young chickens × 100).

Table 10—Estimated Benefits of the Proposed Rule: Benefits from Increased Industrial Efficiency
Line speed changes | Range of establishments: Lower (23 est.) | Range of establishments: Mid-point (58 est.) | Range of establishments: Upper (85 est.)
Cost Savings (million $)
Lower | 62 | 107 | 146
Mid | 223 | 386 | 534
Upper | 378 | 662 | 926
Potential Change in Retail Price (%)
Lower | −1.18 | −2.01 | −2.74
Mid | −4.14 | −7.04 | −9.59
Upper | −6.90 | −11.73 | −15.98
Estimates were annualized assuming a 5-year adoption period and discounted at the 7 percent rate over 10 years. Numbers may not sum due to rounding. Please see the surrounding discussion for details and requests for comments related to the model parameters underlying these illustrative estimates.

The estimated cost savings are the result of establishments reducing their production costs by using resources more efficiently and optimizing their production processes, which could lead to more industry profits and lower consumer prices. Additionally, consumer benefits would be conditional on how an increase in line speed affects retail prices. As such, the Agency is seeking comments on the extent to which an increase in line speed would affect young chicken prices, establishment hours of operation, consumer prices, and export volumes.

Cost Savings for Removing Attestation of Work-Related Conditions

Establishments operating under the NPIS would no longer need to submit on an annual basis an attestation to the management member of the local FSIS circuit safety committee stating that it maintains a program to monitor and document any work-related conditions of establishment workers. The cost savings from removing this attestation, which is estimated to take approximately 2 minutes per establishment or a combined total of seven hours for the industry, are $441.28 annually.⁷¹

⁷¹ FSIS used the time estimate included in 79 FR 49620 and the hourly mean wage rate for Food Scientists and Technologists of $31.52 multiplied by a benefits and overhead factor of two. BLS, “Occupational Employment and Wage Statistics,” Animal Slaughtering and Processing (311600), May 2024 (Occupation code: 19-1012), June 3, 2025, https://data.bls.gov/oes/#/industry/311600.

Net Benefits of the Proposed Rule

Allowing NPIS young chicken establishments the flexibility to operate at line speeds up to 175 bpm reduces regulatory burden and promotes innovation while not compromising food safety. Since it would be voluntary to increase line speeds, establishments would only choose to operate at faster line speeds if the benefits of doing so outweigh the costs. This PRIA estimated the potential costs and benefits from cost savings of allowing NPIS young chicken establishments the flexibility to operate at line speeds up to 175 bpm.

If this proposed rule is finalized, the mid-cost estimate for the range of establishments is approximately $202 million, with a range of $127 to $309 million, annualized assuming a 5-year adoption period at a 7 percent discount rate over 10 years (Table 11). Most of this cost is associated with additional labor to voluntarily increase line speeds. The proposed rule's mid benefits from cost savings estimate for the range of establishments is approximately $386 million, with a range of $223 to $534 million, annualized assuming a 5-year adoption period at a 7 percent discount rate over 10 years. The mid net benefit estimate for the range of establishments is approximately $184 million, with a range of $96 to $225 million, annualized assuming a 5-year adoption period and a 7 percent discount rate over 10 years (Table 11). The mid net benefit estimate for the range of establishments is approximately $191 million, with a range of $100 to $241 million, annualized assuming a 5-year adoption period and a 3 percent discount rate over 10 years (Table 12). Overall, this rule is net beneficial for the range of line speed increases FSIS analyzed.

Table 11—Net Benefits at 7 Percent Discount Rate, Over 10 Years
Line speed changes | Range of establishments: Lower (23 est.) | Range of establishments: Mid-point (58 est.) | Range of establishments: Upper (85 est.)
Costs (million $)
Costs:
Lower | 9 | 14 | 21
Mid | 127 | 202 | 309
Upper | 337 | 539 | 824
Benefits (million $)
Benefits
Lower | 62 | 107 | 146
Mid | 223 | 386 | 534
Upper | 378 | 662 | 926
Net Benefits (million $)
Net Benefits:
Lower | 54 | 93 | 125
Mid | 96 | 184 | 225
Upper | 41 | 123 | 102
Estimates were annualized at a 7 percent discount rate over 10 years, assuming the 5-year adoption period. Numbers may not sum due to rounding.

Table 12—Net Benefits at 3 Percent Discount Rate Over 10 Years
Line speed changes | Range of establishments: Lower (23 est.) | Range of establishments: Mid-point (58 est.) | Range of establishments: Upper (85 est.)
Costs (million $)
Costs:
Lower | 9 | 14 | 22
Mid | 131 | 210 | 314
Upper | 350 | 559 | 836
Benefits (million $)
Benefits:
Lower | 65 | 111 | 152
>Mid | 231 | 401 | 555
Upper | 393 | 688 | 962
Net Benefits (million $)
Net Benefits:
Lower | 56 | 96 | 130
Mid | 100 | 191 | 241
Upper | 43 | 129 | 126
Estimates are annualized at a 3 percent discount rate over 10 years, assuming the 5-year adoption period. Numbers may not sum due to rounding.

In addition to the quantified benefits for establishments that increase their line speeds, the remaining NPIS young chicken establishments may benefit from an increase in regulatory flexibility if this proposed rule is finalized. Additionally, FSIS' proposal to change the maximum line speed for turkey establishments operating under the NPIS could benefit the 22 NPIS turkey establishments by allowing them to use their resources more efficiently and optimizing their production process.

Alternatives

A—Taking No Action and Ending the Line Speed Waivers

FSIS considered taking no further regulatory action and ending the line speed waivers. This would result in all NPIS young chicken slaughter establishments being required to operate at the current maximum line speed of 140 bpm. If the Agency were to rescind the line speed waivers, establishments would incur costs associated with reverting back to pre-waiver equipment, personnel, or operations. The Agency anticipates these costs would be substantial. Further, establishments with waivers for faster line speeds would forgo benefits that they have accrued through improved efficiency. The estimated mid-point forgone industry benefit from cost savings is approximately $348 million, annualized assuming a 7 percent discount rate over 10 years (Table 12). The Agency rejects this alternative because it would forgo the benefits provided from allowing NPIS establishments to operate at a maximum line speed of up to 175 bpm under the proposed rule.

B—The Proposed Rule

Allowing NPIS young chicken establishments the flexibility to operate at line speeds up to 175 bpm would reduce regulatory burden and promote production efficiency. Since it would be voluntary to increase line speeds, establishments would only choose to operate at faster line speeds if the benefits of doing so outweigh the costs. This could increase the number of establishments that would be permitted to operate at faster line speeds. The mid-point estimated cost associated with this proposed rule is approximately $202 million, annualized assuming a 5-year adoption period and a 7 percent discount rate over 10 years. The benefit estimate from cost savings is approximately $386 million, annualized assuming a 5-year adoption period and a 7 percent discount rate over 10 years. The estimated net benefits would be $184 million, annualized assuming a 5-year adoption period and a 7 percent discount rate over 10 years. The proposed rule would result in the highest net benefits among the other alternatives. Therefore, the Agency supports this alternative and selects it.

Additionally, FSIS' proposal to change the maximum line speed for turkey establishments operating under the NPIS could benefit the 22 NPIS turkey establishments as they could make more efficient use of their resources and optimize their production process.

C—Require Establishments Be in Salmonella Performance Category 1 or 2

For this alternative, the Agency considered requiring all NPIS establishments operating at line speeds up to 175 bpm to be in FSIS' Salmonella performance category 1 or 2 for young chicken carcasses. Under this alternative, the number of establishments likely to run at higher line speeds is reduced to 53 establishments with total annual production of approximately 3.3 billion birds, or 35.42 percent of young chicken slaughtered.⁷² The mid-point estimated cost is approximately $187 million, annualized assuming a 5-year adoption period and a 7 percent discount rate over 10 years. Most of this cost is associated with additional labor at the establishments that may voluntarily increase their line speeds. This alternative's benefit estimate from cost savings is approximately $353 million, annualized assuming a 5-year adoption period and a 7 percent discount rate over 10 years. The alternative would have an estimated net benefit of $166 million, annualized assuming a 5-year adoption period and a 7 percent discount rate over 10 years. This alternative is found to be unnecessarily restrictive and reduce the number of establishments that would be permitted to operate at faster line speeds and results in lower net benefits compared to the proposed rule. Therefore, the Agency rejects it.

⁷² These 53 establishments included NPIS young chicken establishments in Salmonella category 1 or 2 with an average minimum production of 13.3 million birds per line per shift. The 53 establishments had a total of 208 line-shifts.

D—Require Establishments Be in Salmonella Performance Category 1

The Agency considered requiring all establishments operating at line speeds above 140 bpm and up to 175 bpm to be in FSIS' Salmonella performance category 1 for young chicken carcasses. Under this alternative, the number of establishments likely to run at higher line speeds is reduced to 27 establishments with annual production of approximately 1.7 billion birds, or 18 percent of young chicken slaughtered.⁷³ These establishments would likely incur additional labor and capital costs associated with meeting this food safety criteria. The mid-point estimated cost associated with this alternative is approximately $92 million, annualized assuming a 5-year adoption period and a 7 percent discount rate over 10 years. This alternative's benefit estimate from cost savings is approximately $176 million, annualized assuming a 5-year adoption period and a 7 percent discount rate over 10 years. The estimated net benefits would be $84 million, annualized assuming a 5-year adoption period and a 7 percent discount rate over 10 years. This represents a 54 percent reduction in net benefits compared to the proposed rule. Further, the line speed analysis used to support this proposed rule found no significant increase in the Salmonella prevalence of young chicken carcasses operating under waiver conditions, which included being in either category 1 or 2, at line speeds above 140 bpm up to 175 bpm compared to establishments operating at line speeds not exceeding 140 bpm. As such, this alternative is rejected because it would increase industry costs with minor additional benefits.

⁷³ These 27 establishments included NPIS young chicken establishments in Salmonella category 1 with an average minimum production of 13.3 million birds per line per shift. The 27 establishments had a total of 102 line-shifts.

Table 12—Alternative Policy Options ¹
Alternatives | Benefits | Costs | Net
A. Taking No Action and Ending the Line Speed Waivers | No benefit | Poultry establishments would lose their line speed waivers, reducing their productivity and likely incurring costs associated with adjusting their production processes. The mid-point forgone benefit from cost savings is approximately $348 million | This alternative is not net beneficial compared to the proposed rule.
B. The Proposed Rule | The proposed rule would increase regulatory flexibility and could generate $386 million in benefits from cost savings | As a result of the proposed rule, the mid-point cost is approximately $202 million | Industry could gain $184 million net benefits.
C. Requiring Establishments to be in Salmonella Performance Category 1 and 2 | The mid-point benefit from cost savings is approximately $353 million | The industry could incur $187 million in costs | Compared to the proposed rule, the industry would gain lower net benefits of $166 million.
D. Requiring Establishments to be in Salmonella Performance Category 1 | The mid-point benefit from cost savings is approximately $176 million | This alternative would increase industry costs associated with meeting food safety criteria. The mid-point cost is approximately $92 million | Compared to the proposed rule, this alternative has 54 percent lower net benefits.
¹ Estimates are annualized at a 7 percent discount rate over 10 years, assuming the 5-year adoption period. Numbers may not sum due to rounding. Please see earlier portions of the regulatory impact analysis for details and requests for comments related to the model parameters underlying quantitative estimates.

IV. Regulatory Flexibility Act Assessment

The FSIS Administrator has made a preliminary determination that this proposed rule, if finalized, would not have a significant economic impact on a substantial number of small entities in the U.S., as defined by the Regulatory Flexibility Act (5 U.S.C. 601 et seq.). FSIS is proposing to amend the regulations to: allow young chicken establishments operating under the New Poultry Inspection System (NPIS) to operate at line speeds up to 175 birds per minute (bpm); increase the maximum line speed prescribed for turkey establishments operating under the NPIS from 55 bpm to 60 bpm; define “maximum line speed” as the time it takes for an inspector to effectively perform online carcass inspection procedures; clarify when FSIS may direct establishments to operate at a reduced line speed; and remove requirements for NPIS establishments to submit to FSIS annual attestations on worker safety programs.

How many small entities are impacted by the proposed rule?

The U.S. Small Business Administration (SBA) size standard for small businesses in this sector is 1,250 employees or less.⁷⁴ Poultry slaughter establishments are classified in the 311615 Poultry Processing sector of the North American Industry Classification System. This U.S. industry is comprised of establishments primarily engaged in (1) slaughtering poultry and small game and/or (2) preparing processed poultry and small game meat and meat byproducts.75 76 Based on U.S. Census Bureau Statistics of U.S. Businesses (SUSB) data,⁷⁷ approximately 260 firms (88 percent) in the Poultry Processing sector are small and approximately 35 firms (12 percent) in this industry are large (Table 13).⁷⁸ The 102 slaughter establishments likely impacted by this rule are associated with approximately 26 firms, of which 24 have at least 1,250 employees. Therefore, FSIS estimates that two of the 260 small firms may voluntarily adopt faster line speeds and be impacted by the proposed rule.

⁷⁴ U.S. Small Business Administration (SBA), March, 17, 2023, Table of Small Business Size Standards Matched to North American Industry Classification System Codes. Available at https://www.sba.gov/sites/default/files/files/Size_Standards_Table.pdf.

⁷⁵ U.S. Census Bureau North American Industry Classification System (NAICS). Available online at https://www.census.gov/naics/?input=31&chart=2022&details=311615 (last accessed in April 2025).

⁷⁶ United States Small Business Administration (SBA), Table of Small Business Standards Matched to North American Industry Classification System Codes. Effective January 1, 2022. Available at https://www.sba.gov/sites/default/files/files/Size_Standards_Table.pdf.

⁷⁷ U.S. Census Bureau. (2022). 2022 SUSB Annual Data Tables by Establishment Industry: U.S. and states, NAICS detailed employment, [Data file]. April 2025. https://www.census.gov/data/tables/2022/econ/susb/2022-susb-annual.html.

⁷⁸ SUSB employment data are reported in ranges rather than at the exact SBA size standard of 1,250 employees. To provide a conservative estimate, FSIS classified firms with 1,499 or fewer employees as small.

Table 13—Small Entity by Firm Size and Receipts, SUSB Data, 311615 Poultry Processing Sector
Enterprise size | Number of firms | Receipts (million $)
Less than 5 employees | 71 | 78
5-9 employees | 37 | 93
10-14 employees | 14 | 71
15-19 employees | 13 | 146
20 to 500 employees | 95 | 4,877
500-749 employees | 10 | 2,351
750-999 employees | 10 | 2,439
1,000-1,499 employees | 10 | 4,362
Total | 260 | 14,418

What are the criteria for “significant impact” and “substantial number of small entities”?

The Regulatory Flexibility Act requires the Agency to analyze whether the proposed rule, if finalized, would have a significant impact on a substantial number of small entities. FSIS defines a “significant economic impact” as one that is greater than 1 percent of small entities' annual revenues. FSIS would consider a regulation to have an impact on a substantial number of small entities if it affects over 30 percent of the small entities identified in the analysis.

What are the economic impact and compliance costs per firm?

In the Regulatory Impact Analysis of this proposed rule, FSIS estimated the costs associated with this proposed rule if an entity chooses to operate at faster line speeds. On average, the approximate cost per entity is $3.5 million, annualized at a 7% discount rate. FSIS has estimated that, on aggregate, this proposed rule would be net beneficial and noted that entities would only choose to operate at faster line speeds if the benefits outweigh costs for their operations. FSIS also estimated a one-time cost of $90 to account for the time needed for a small entity to become familiarized with this proposed rule.

Does the proposed rule have a significant impact on a substantial number of small entities?

Using SUSB data, FSIS estimated that the 1 percent “significant impact” criterion for the small entities impacted by this proposed rule is $3.1 million.⁷⁹ The “substantial number” criterion of 30 percent of small entities results in a total of 78 small entities. This means that this proposed rule would have a significant impact on a substantial number of small entities if it has an estimated impact of over $3.1 million on at least 78 small entities.

⁷⁹ The two small entities that FSIS assumed would voluntarily increase their line speed in response to this proposed rule likely have between 500 and 1,499 employees. FSIS estimated revenue for firms in the Poultry Processing sector having between 500 and 1,499 employees at $305 million, thus a firm's average threshold for significant impact is $3.1 million. U.S. Census Bureau. (2022). 2022 SUSB Annual Data Tables by Establishment Industry: U.S. and states, NAICS detailed employment, 2022 [Data file]. April 2025. https://www.census.gov/data/tables/2022/econ/susb/2022-susb-annual.html.

FSIS estimates the impact on the two small entities that may voluntarily adopt faster line speeds at 1.1 percent of the estimated revenue. These small entities represent less than 1 percent (2/260) of the total number of small entities and do not amount to a substantial number of small entities that may experience a significant impact from this proposed rule. The estimated one-time cost of $90 for a firm to familiarize themselves with the proposed rule would amount to less than 1 percent of annual receipts for all entities. The $90 familiarization cost for 71 firms with less than 5 employees is 0.01 percent of their average annual receipts.

What are the direct and indirect impacts?

FSIS does not anticipate direct costs or benefits to a substantial number of small entities because the proposed rule does not impose additional requirements and removes the need to obtain waivers and participate in SIP to operate at faster line speeds. Small entities are permitted to operate at line speeds of up to 175 bpm if they choose to operate under NPIS. FSIS assumes most would not do so due to economic constraints.

Small and very small entities generally operate in local niche markets, in which they source inputs from small producers and sell products to consumers who have shown an increased demand for locally produced products.⁸⁰ The proposed rule, if finalized, is not expected to directly impact these local niche markets or the entities that participate in them.

⁸⁰ Johnson, R., Marti, D. and Gwin, L. (2012). Slaughter and Processing Options and Issues for Locally Sourced Meat. Washington, DC: USDA Economic Research Service, LDP-M-216-01.

Certification

FSIS preliminarily certifies that this proposed rule would not have a significant economic impact on a substantial number of small entities in the United States. FSIS invites comments on the assumptions, data, potential unidentified direct or indirect costs, methodologies, and conclusions in this analysis.

V. Paperwork Reduction Act

In accordance with subsection 3507(d) of the Paperwork Reduction Act of 1995 (44 U.S.C. 3501 et seq.), the information collection and recordkeeping requirements included in this notice have been submitted by the Agency to the Office of Management and Budget (OMB) for approval.

Title: New Poultry Inspection System.

OMB Number: 0583-0156.

Type of Request: Request to revise an approved information collection.

Abstract: FSIS has been delegated the authority to exercise the functions of the Secretary (7 CFR 2.18, 2.53), as specified in the Poultry Products Inspection Act (PPIA) (21 U.S.C. 451, et seq.). This statute mandates that FSIS protect the public by verifying that poultry and poultry products are safe, wholesome, and properly labeled.

The currently approved burden estimate for this collection is 191,204 hours. This burden estimate includes the collection of information to ensure that all official poultry slaughter establishments, other than establishments that slaughter ratites, maintain as part of their HACCP plan, sanitation SOP, or other prerequisite program, written procedures addressing: (1) the prevention throughout the entire slaughter and dressing operation of contamination of carcasses and parts by enteric pathogens (e.g., Salmonella and Campylobacter) and by fecal material, including microbial test results; and (2) the prevention of carcasses and parts contaminated by visible fecal material from entering the chiller. The collection further provides for recordkeeping to ensure that establishments operating under NPIS maintain written procedures to prevent carcasses presenting with septicemia and toxemia from entering the chiller, as well as records that document that the products resulting from slaughter operations meet the definition of ready-to-cook poultry.

As part of this proposed rule, FSIS requests to eliminate the current requirement for each establishment operating under the NPIS to submit on an annual basis an attestation to the management member of the local FSIS circuit safety committee stating that it maintains a program to monitor and document any work-related conditions of establishment workers. The elimination of this attestation requirement would reduce the total burden estimate by seven hours for a revised total of 191,197 hours. The current approval for this information collection will expire on August 31, 2026.

FSIS has made the following estimates based upon an information collection assessment:

Respondents: Official poultry establishments.

Estimated No. of Respondents: 289.

Estimated No. of Annual Responses per Respondent: 5,292.

Estimated Total Annual Burden on Respondents: 191,197 hours.

Copies of this information collection assessment can be obtained from Gina Kouba, Office of Policy and Program Development, Food Safety and Inspection Service, USDA, 1400 Independence Avenue SW, Mailstop 3758, South Building, Washington, DC 20250-3700; 202-720-5046.

Information collection comments are invited on: (a) whether the proposed collection of information is necessary for the proper performance of FSIS' functions, including whether the information will have practical utility; (b) the accuracy of FSIS' estimate of the burden of the proposed collection of information, including the validity of the method and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget (OMB), Washington, DC 20253.

VI. Executive Order 12988, Civil Justice Reform

This proposed rule has been reviewed under E.O. 12988, Civil Justice Reform. Under this rule: (1) All State and local laws and regulations that are inconsistent with this rule will be preempted; (2) no retroactive effect will be given to this rule; and (3) no administrative proceedings will be required before parties may file suit in court challenging this rule.

VII. E-Government Act

FSIS and USDA are committed to achieving the purposes of the E-Government Act (44 U.S.C. 3601, et seq.) by, among other items, promoting the use of the internet and other information technologies and providing increased opportunities for citizen access to Government information and services, and for other purposes.

VIII. Executive Order 13175

This proposed rule has been reviewed in accordance with the requirements of E.O. 13175, “Consultation and Coordination with Indian Tribal Governments.” E.O. 13175 requires Federal agencies to consult and coordinate with tribes on a government-to-government basis on policies that have tribal implications, including regulations, legislative comments or proposed legislation, and other policy statements or actions that have substantial direct effects on one or more Indian tribes, on the relationship between the Federal Government and Indian tribes or on the distribution of power and responsibilities between the Federal Government and Indian tribes.

The USDA's Office of Tribal Relations (OTR) has assessed the impact of this proposed rule on Indian tribes and determined that this proposed rule currently does not require tribal consultation at this time. If a Tribe requests consultation, FSIS will work with the OTR to ensure meaningful consultation is provided where changes, additions and modifications identified herein are not expressly mandated by Congress.

IX. USDA Non-Discrimination Statement

In accordance with Federal civil rights law and USDA civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the State or local Agency that administers the program or contact USDA through the Telecommunications Relay Service at 711 (voice and TTY). Additionally, program information may be made available in languages other than English.

To file a program discrimination complaint, complete the USDA Program Discrimination Complaint Form, AD-3027, found online at How to File a Program Discrimination Complaint and at any USDA office or write a letter addressed to USDA and provide in the letter all of the information requested in the form. To request a copy of the complaint form, call (866) 632-9992. Submit your completed form or letter to USDA by: (1) mail: U.S. Department of Agriculture, Office of the Assistant Secretary for Civil Rights, 1400 Independence Avenue SW, Mail Stop 9410, Washington, DC 20250-9410; (2) fax: (202) 690-7442; or (3) email: program.intake@usda.gov.

USDA is an equal opportunity provider, employer, and lender.

X. Additional Public Notification

Public awareness of all segments of rulemaking and policy development is important. Consequently, FSIS will announce this Federal Register publication on-line through the FSIS web page located at: https://www.fsis.usda.gov/federal-register. FSIS also will make copies of this publication available through the FSIS Constituent Update, which is used to provide information regarding FSIS policies, procedures, regulations, Federal Register notices, FSIS public meetings, and other types of information that could affect or would be of interest to our constituents and stakeholders. The Constituent Update is available on the FSIS web page. Through the web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves and have the option to password protect their accounts.

XI. Proposed Regulatory Amendments

List of Subjects in 9 CFR Part 381

Meat inspection, Poultry and poultry products.

For the reasons set out in the preamble, FSIS is proposing to amend 9 CFR part 381 as follows:

Part 381—POULTRY PRODUCTS INSPECTION REGULATIONS

1. The authority citation for part 381 continues to read as follows:

2. Authority: 7 U.S.C. 138f, 1633; 21 U.S.C. 451-472; 7 CFR 2.7, 2.18, 2.53.

3. Remove and reserve subpart H, consisting of §§ 381.45 and 381.46.

4. Revise section 381.69 as follows:

§ 381.69 Maximum line speed rates under the New Poultry Inspection System.

(a) The maximum line speed authorized under the New Poultry Inspection System (NPIS) reflects the time it takes for an inspector to effectively perform the online carcass inspection procedures required for the NPIS.

(b) The maximum line speed for young chicken slaughter establishments that operate under the NPIS is 175 birds per minute (bpm).

(c) The maximum line speed for turkey slaughter establishments that operate under the NPIS is 60 bpm.

(d) Notwithstanding paragraphs (b) and (c) of this section, establishments that operate under the NPIS must slow operations as directed by inspectors-in-charge (IICs). IICs are authorized to require establishments to reduce the rate of establishment operations at any point in the slaughter process when, in their judgment, there is a loss of process control or when carcass-by-carcass inspection cannot be adequately performed due to the way birds are presented to the online carcass inspector or the health condition of the flock.

(e) Establishments operating under the line speed limits authorized in this section shall comply with all other applicable requirements of the laws, including, but not limited to, 29 U.S.C. 654(a).

(f) Should a court of competent jurisdiction hold any provision of this section to be invalid, such action shall not affect any other provision of this section.

* * * * *

Done at Washington, DC.
Justin Ransom,
Administrator.

[FR Doc. 2026-03227 Filed 2-18-26; 8:45 am]

BILLING CODE 3410-DM-P